DEPARTMENT OF HOUSING AND URBAN DEVELOPMENT

[Docket No. FR-5995-N-06]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), call the toll-free Title V information line at 800-927-7588 or send an email to title5@hud.gov.

SUPPLEMENTARY INFORMATION: In accordance with 24 CFR part 581 and section 501 of the Stewart B. McKinney Homeless Assistance Act (42 U.S.C. 11411), as amended, HUD is publishing this Notice to identify Federal buildings and other real property that HUD reviewed and/or published in 2016 that were determined suitable for use to assist the homeless. The properties were reviewed using information provided to HUD by Federal landholding agencies regarding unutilized and underutilized buildings and real property controlled by such agencies or by GSA regarding its inventory of excess or surplus Federal property.

In accordance with 24 CFR part 581.3(b) landholding agencies were required to notify HUD by December 31, 2016, the current availability status and classification of each property controlled by the Agencies that were published by HUD as suitable and available which remain available for application for use by the homeless.

Pursuant to 24 CFR part 581.8(d) and (e) HUD is required to publish a list of those properties reported by the Agencies and a list of suitable and unavailable properties including the reasons why they are not available.

Where property is described as for “off-site use only” recipients of the property will be required to relocate the building to their own site at their own expense. Homeless assistance providers interested in any such property should send a written expression of interest to HHS, addressed to Theresa Ritta, Division of Property Management, Program Support Center, HHS, Room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For more information regarding particular properties identified in this Notice (e.g., acreage, floor plan, existing sanitary facilities, exact street address), providers should contact the appropriate landholding agencies at the following addresses: Agriculture: Ms. Debra Kerr, Department of Agriculture, Reporters Building, 300 7th Street SW., Room 300, Washington, DC 20024, (202)-720-8873; Air Force: Mr. Robert E. Moriarty, P.E., AFCEC/CI, 2261 Hughes Avenue, Ste. 155, JBSA Lackland, TX 78236-9853; Army: Ms. Veronica Rines, Office of the Assistant Chief of Staff for Installation Management, Department of Army, Room 5A128, 600 Army Pentagon, Washington, DC 20310, (571)-256-8145; COE: Mr. Scott Whiteford, Army Corps of Engineers, Real Estate, CEMP-CR, 441 G Street NW., Washington, DC 20314; (202) 761-5542; GSA: Mr. Flavio Peres, General Services Administration, Office of Real Property Utilization and Disposal, 1800 F Street NW., Room 7040 Washington, DC 20405, (202) 501-0084; Navy: Ms. Nikki Hunt, Department of the Navy, Asset Management Division, Naval Facilities Engineering Command, Washington Navy Yard, 1330 Patterson Ave. SW., Suite 1000, Washington, DC 20374, (202)-685-9426; Veteran Affairs: Ms. Jessica L. Kaplan, Director, Real Property Service, Department of Veterans Affairs, 810 Vermont Avenue NW. (003C1E), Washington, DC 20420, (202)-273-8234; (These are not toll-free numbers).

Dated: February 2, 2017.
Brian P. Fitzmaurice,
Director, Division of Community Assistance, Office of Special Needs Assistance Programs.

TITLE V PROPERTIES REPORTED IN YEAR 2016 WHICH ARE SUITABLE AND AVAILABLE

Army

Building

Alabama

C1301

Property Number: 21201220017

Ft. McClellan

Ft. McClellan AL 36205

Status: Excess

Comments: off-site removal only; 2,232 sf.; barracks; extensive repairs needed; secured area; need prior approval to access property.

4811

Property Number: 21201430024

Redstone Arsenal

Redstone Arsenal AL 35898

Location: 4811

Status: Unutilized

Comments: off-site removal only; no future agency need; 221 sq. ft.; Flammable/explosive storage facility; 12+ months vacant; deteriorated; secured area; contact Army for more information.

6 Buildings

Property Number: 21201510040

Redstone Arsenal

Madison AL 35898

Location: 3757 (800 sq. ft.); 3759 (39 sq. ft.); 3762 (288 sq. ft.); 6209 (130 sq. ft.); 6210 (130 sq. ft.); 7859 (522 sq. ft.)

Status: Unutilized

Comments: off-site removal only; no future agency need; prior approval to gain access is required; for more info. contact Army.

2 Buildings

Property Number: 21201530058

Redstone Arsenal

Redstone Arsenal AL 35898

Location: Building 7359 (4,547 sq. ft.); 7369 (7,288 sq. ft.)

Status: Unutilized

Comments: off-site removal; 48-70+ yrs. old; rocket plants; vacant 4 mos.; major reno. needed; contaminates; asbestos; no future agency need; prior approval needed to gain access; contact Army for more info.

Building 3540

Property Number: 21201530092

Redstone Arsenal

Redstone Arsenal AL 35898

Status: Unutilized

Comments: off-site removal only; no future agency need; 150 sq. ft.; range support; removal may be diff.due to type(brick); major renov.; LBP; endangered species- var. bat species; contact Army for more info.

4 Buildings

Property Number: 21201620022

Bldg. 30815 AL 85 Peters St.

Doleville AL 36362

Location: 4011T: RPUID:186097 (720 sq.); 414: RPUID:186545 (288 sq.); 30815: RPUID:671439 (144 sq.); 4513: RPUID:186563 (400 sq.)

Status: Unutilized

Comments: off-site removal only; no future agency need 24+-47+ yrs. old; sq. ft. above; storage; rec shelter; flam mat; 1+-6+ mos. vacant; poor & fair condition; contact Army for more information.

4735; RPUID: 186113

Property Number: 21201640006

Fort Rucker

Ft. Rucker AL 36362

Status: Unutilized

Comments: off-site removal only; no future agency need; 106 sq. ft.; relocation difficult due to type; 48+ months vacant; contact Army for accessibility and conditions.

Alaska

Bldg. 00001

Property Number: 21200710051

Holy Cross Armory

High Cross AK 99602

Status: Excess

Comments: 1200 sq. ft. armory, off-site use only.

Building 00001

Property Number: 21201320038

9679 Tuluksak Rd.

Toksook AK 99679

Status: Excess

Comments: 1,200 sf.; armory; 60 months vacant; poor conditions.

Building 00001

Property Number: 21201330030

Lot 7 Block 11 US Survey 5069

Noorvik AK 99763

Status: Excess

Comments: 1,200 sf. armory; 60+ months vacant; poor conditions; contact Army for more info.

Building 00001

Property Number: 21201330031

P.O. Box 22

Gambell AK 99742

Status: Excess

Comments: 1,208 sf.; armory; 60+ months vacant; poor conditions; contact Army for more info.

Building 0001

Property Number: 21201330032

Kivalina Armory

Kivalina AK 99750

Status: Excess

Comments: 1,200 sf. armory; 600+ months vacant; poor conditions; contact Army for more info.

Akiachuk 00001

Property Number: 21201330033

500 Philips St.

Akiachuk AK 99551

Status: Excess

Comments: 1,200 sf.; armory; 60+ months vacant; poor conditions; contact Army for more info.

Arizona

Building 90890

Property Number: 21201440051

Fort Huachuca

Fort Huachuca AZ 85613

Status: Unutilized

Comments: off-site removal only; no future agency need; 40 sq. ft.; 80+ months vacant; repairs needed; contact Army for more information.

7 Buildings

Property Number: 21201510025

Papago Park Military Reservation

Phoenix AZ 85008

Location: M5358(1500 sq. ft.); M5356 (1,500 sq. ft.) M5354 (1,500 sq. ft.); M5352 (1,500 sq. ft.); M5218 (1,097 sq. ft.); M5331 (2,460 sq. ft.); M5502 (5,856 sq. ft.)

Status: Excess

Comments: fair condition prior approve to gain access is required, for more information contact Army about a specific property.

2 Building

Property Number: 21201520007

5636 E. McDowell Road

Phoenix AZ 85008

Location: Building M5502 (5,856 sq. ft.) & M5331 (2,460 sq. ft.)

Status: Excess

Comments: 45+ & 62+ yrs. old for buildings respectively above; administration; restricted access; escort required; contact Army for more information.

Agriculture

Building

California

El Cariso Hot Shot Camp

Property Number: 15201630005

B3 El Cariso Hot Shot Barracks Trailer

Lake Elsinore CA 92530

Location: 1356 & 1357 Gifford Pinchot Lane Hwy 74 to Long Canyton Rd.; off-site removal only; no future agency need; 1,335 sq. ft.; residential; 101+ months vacant; water restrictions; poor conditions

Status: Unutilized

Comments: mold/bacterial growth in walls & floor cavities & insulation; extensive repairs to make it useable; several use limitations; contact Agriculture for more information.

Army

Building

California

Bldgs. 18026, 18028

Property Number: 21200130081

Camp Roberts

Monterey CA 93451-5000

Status: Excess

Comments: 2024 sq. ft. sq. ft., concrete, poor condition, off-site use only.

1201T

Property Number: 21201310060

Tower Rd.

Dubin CA 94568

Status: Unutilized

Comments: off-site removal only; 30 sf.; control tower; poor conditions; restricted area; transferee must obtain real estate doc. to access/remove; contact Army for more info.

1201S & 1205S

Property Number: 21201310062

Tower Rd.

Dublin CA 94568

Location: Previously reported under 21201010006

Status: Unutilized

Comments: REDETERMINATION: off-site removal only; 396 & 252 sf. repetitively; storage; poor conditions; transferee will need to obtain real estate doc. to access/remove property; contact Army for more info.

2 Building

Property Number: 21201330002

Parks Reserve Forces Training Area

Dublin CA 94568

Location: 1108, 1109

Status: Underutilized

Comments: off-site removal only; no future agency need; sf. varies; poor conditions; secured area; contact Army for info. on a specific property & accessibility removal requirements.

7 Building

Property Number: 21201330003

Parks Reserve Forces Training Area

Dublin CA 94568

Location: 200, 00974, 1080, 1085, 1100, 1101, 1176

Status: Unutilized

Comments: sf varies; no future agency need; poor/deteriorated conditions; secured area; escort required; contact Army for more info. on a specific property & accessibility reqs./removal options.

11 Building

Property Number: 21201330018

Fort Hunter Liggett

FF Hunter Liggett CA 93928

Location: 0100A, 0178B, 00306, 00408, 0418A, 00850, 00851, 00932, 00945, 00946, 00947

Status: Unutilized

Comments: Offsite removal only; no future agency need; St. varies, conditions range from good to dilapidated secured area, contact Army for more info. on a specific property & accessibility/removal reqs.

22 Buildings

Property Number: 21201330019

Hwy. 101, Bldg. 109

Camp Roberts CA 93451

Location: 00902, 00936, 01019, 06079, 06080, 06125, 06320, 14212, 14308, 14801, 25012, 25013, 27108, 27110, 27126, RB001, RB003, RB004, RB005, RB006, RB007, RB043

Status: Excess

Comments: CORRECTION: Bldg. 14801 incorrectly published on 08/30/2013; off-site removal only; 6+ months vacant; poor conditions; contamination; secured area; contact Army for info.

11 Building

Property Number: 21201330023

Fort Hunter Liggett

Fort Hunger Liggett CA 93928

Location: 0100A, 0178B, 00306, 00408, 0418A, 00850, 00851, 00932, 00945, 00946, 00947

Status: Unutilized

Comments: offsite removal only; no future agency need; St. varies, conditions range from good to dilapidated secured area, contact Army for more info. on a specific property & accessibility/removal reqs.

23 Buildings

Property Number: 21201330025

Hwy 101, Bldg. 109

Camp Robert CA 93451

Location: T0805, T0831, T0834, T0874, T0876, T0917, T0920, T0922, T0923, T0925, T0933, T0934, T0 935, T0955, T0956, T0955, T0956, T0966, T0967, T0992, T6005, T6029, T6406, T7025, T7037

Status: Excess

Comments: off-site removal only; sf varies; 6t months vacant; poor conditions; contamination; secured area; contact Army for more info. on a specific property & accessibly removal reqs.

11 Building

Property Number: 21201330026

Fort Hunter Liggett

Fort Hunter Ligget CA 93928

Location: 0100A, 0178B, 00306, 00408, 0418A, 00850, 00851, 00932, 00945, 00946, 00947

Status: Unutilized

Comments: off-site removal only; no future agency need; St. varies, conditions range from good to dilapidated secured area, contact Army for more info. on a specific property & accessibility/removal reqs.

7 Buildings

Property Number: 21201330067

Sierra Army Depot

Herlong CA 96113

Location: 00478, 00548, 00681, 00682, 00683, 00684, and 00685

Status: Unutilized

Comments: Sf. varies, 36-204+ months vacant; fair to deteriorated; secured area; extensive background check required; contact Army for info. on a specific property & accessibility reqs.

2 Buildings

Property Number: 21201410024

Camp Roberts MTC

Camp Roberts CA 93451

Location: 14102 (864 sq. ft.); 14801 (200 sq. ft.)

Status: Excess

Comments: off-site removal only; 72+ yrs. old; secured area; contact Army for accessibility/removal requirements

4 Buildings

Property Number: 21201420004

Fort Hunter Liggett

711 ASP Road

Fort Hunter Liggett CA 93928

Location: 711; 710; 0408A; 719

Status: Unutilized

Comments: off-site removal only; no future agency need; poor conditions; must obtain access documentation; contact Army for information on a specific property and accessibility/removal request.

Bldg. 53

Property Number: 21201430003

Navy Lodge on RT Jones Rd.

Mountain View CA

Status: Excess

Comments: off-site removal only; 960 sq. ft.; storage; poor conditions; contact Army for more information

00294

Property Number: 21201430018

Los Alamitos Joint Forces Training Base (JFTB

Los Alamitos CA 90720-5002

Location: 00294

Status: Underutilized

Comments: off-site removal only; no future agency need; 980 sq. ft.; storage/general purpose; very poor condition; secured area; contact Army for more information.

Camp Roberts MTC (H) Bldg.

Property Number: 21201510028

# T0864

Hwy 101; Bldg. 109

Camp Roberts CA 93451-5000

Status: Unutilized

Comments: off-site removal; 73+ yrs. old; 400 sq. ft. storage; residential; fair to poor condition; vacant 72 months; contact Army for more info.

3 Buildings

Property Number: 21201530048

Park Reserve Forces Training Area

Dubin CA 94568

Location:

Building: 973 RPUID: 376805 (1,933 sq. ft.); 1194 RPUID: 377058 (1,020 sq. ft.); 1195 RPUID: 377059 (1,020 sq. ft.)

Status: Unutilized

Comments: off-site removal only; no future agency need;61/71+ yrs. old; Vacant Storage; recreation center; poor condition; contact Army for more info. on a specific property accessibility/removal requirements.

6 Buildings

Property Number: 21201530049

Fort Hunter Liggett

Fort Hunter Liggett CA 93928

Location:

Building: 0100B (124 sq. ft.); 124 (2,001 sq. ft.); 149 (1,196 sq. ft.); 283 (4,225 sq. ft.); 393 (58 sq. ft.); 394 (58 sq. ft.)

Status: Unutilized

Comments: off-site removal only; no future agency need; 35/86+ yrs. old; usage varies; contact Army for more info. on a specific property; access./removal requirements.

Building 0132A

Property Number: 21201530050

Fort Hunter Liggett

Fort Hunter Liggett CA 93928

Status: Underutilized

Comments: off-site removal; no future agency need; 64+ yrs. old; 943 sq. ft.; residential; poor condition; contact Army for more information and accessibility/removal requirements.

Navy

Building

Calfiornia

14 Buildings

Property Number: 77201620013

Naval Base Ventura County

Point Mugu CA 93043

Location: Building 217SNI; 115SNI; 116SNI; 207SNI; 74SNI; 146SNI; 68SNI; 302SNI; 121SNI; 19SNI; 2SNI; 214A; 228SNI; 116A

Status: Unutilized

Comments: public access denied and no alternative method to gain access without compromising national security.

Army

Building

Colorado

Building 00209

Property Number: 21201520018

4809 Tevis Street

Fort Carson CO 80913

Status: Unutilized

Comments: off-site removal; 49+ yrs. old; 400 sq. ft.; housing; vacant 3 mos.; repairs required; asbestos; no future agency need; contact Army for more information.

Building 00220

Property Number: 21201520033

4860 Tevis Street

Fort Carson CO 80913

Status: Excess

Comments: off-site removal only; 73+ yrs. old; 690 sq. ft.; Eng./housing; repairs required; concrete; maybe difficult to move; asbestos; no future agency need; contact Army for more information.

Building R005F

Property Number: 21201620003

Range 5 Specker Avenue

Fort Carson CO 80913

Status: Unutilized

Comments: off-site removal only; 13+ yrs. old; 800 sq. ft.; storage; 6+ mos. vacant; repairs required; contact Army for more information.

6 Buildings

Property Number: 21201620014

Fort Carson

Fort Carson CO 80913

Location: 02554: RPUID: 572361 (22,441 sq.); 02552: RPUID: 591052 (22,441 sq.); 01950: RPUID: 606520 (11,819 sq.); 01954: RPUID: 583977 (22,386 sq.); 01951: RPUID: 576840 (22,386 sq.); 02551: RPUID: 576791 (22,441 sq.)

Status: Unutilized

Comments: off-site removal only; 38+-42+yrs. old; sq. ft. above; barracks; 2+mos. vacant; repairs required; contact Army for more information.

09301

Property Number: 21201640001

Fort Carson

Ft. Carson CO 80913

Status: Underutilized

Comments: off-site removal only; 2,680 sq. ft.; relocation extremely difficult due to size/type; Administrative; 2+ months vacant; maintenance/repair needed; contact Army for more info.

VA

Building

Colorado

Denver VA Medical Center Property Number: 97201640001

Campus Bldg. 25

1055 Clermont Street

Denver CO 80220

Status: Underutilized

Comments: 40+ yrs.; 400 sf.; generator shelter; past useful service life; access 7:30-4:00; contact VA for more information.

Building 39

Property Number: 97201640002

Denver VA Medical Center

Denver CO 80220

Status: Underutilized

Comments: 32+ yrs. old; 454 sq. ft.; generator shelter, past useful service life; prior approval needed to gain access; contact VA for more information.

Building 25

Property Number: 97201640003

Denver VA Medical Center Campus

Denver CO 80220

Status: Underutilized

Comments: 40+ yrs. old; 400 sq. ft.; generator shelter; past useful service life; prior approval needed to gain access; contact VA for more information.

Navy

Building

Florida

3745C Naval Air Station

Property Number: 77201640002

Pensacola 198 Navy Exchange Rd. Corry Station

Annex—NASP

Pensacola FL 32508

Status: Unutilized

Comments: off-site removal only; 216 sq. ft.; retail; roof leaks; rusted support members; mold;12+ months vacant; significant repairs needed; contact Navy for more information about condition of property.

Army

Building

Georgia

Building 904

Property Number: 21201310004

2022 Veterans Pkwy

Ft. Stewart GA 31314

Status: Excess

Comments: off-site removal only; 9,993 sf.; museum; poor conditions; asbestos & lead-based paint; w/in secured area; Gov't escort required to access/remove property.

Building 862

Property Number: 21201310010

259 N. Lightening Rd.

Hunter Army Airfield GA 31409

Status: Excess

Comments: off-site removal only; 826 sf.; Battery Shop; poor conditions; w/in secured area; contact Army for info. on accessibility/removal reqs.

Building 853

Property Number: 21201310011

140 Barren Loop Rd.

Hunter Army Airfield GA 31409

Status: Excess

Comments: off-site removal only; 4,100 sf.; Admin. 3 mons. vacant; fair conditions; w/in secured area; contact Army for accessibility/removal reqs.

Building 866

Property Number: 21201310012

395 N. Lightening Rd.

Hunter Army Airfield GA 31409

Status: Excess

Comments: off-site removal only; 2,100 sf.; Admin.; fair conditions; w/in secured area; contact Army for info. on accessibility/removal reqs.

Building 9597

Property Number: 21201310013

Bultman Ave.

Ft. Stewart GA 31314

Status: Excess

Comments: off-site removal only; 324 sf.; storage; 6 mons. vacant; poor conditions; w/in secured area; Gov't escort only to access/remove property.

Building 8056

Property Number: 21201310015

N. Lightening Rd.

Hunter Army Airfield GA 31409

Status: Excess

Comments: off-site removal only; 3,790 sf.; navigation bldg.; 10 mons. vacant; fair conditions; asbestos; w/in secured area; Gov't escort only to access/remove property.

Buildings 7736 & 7740

Property Number: 21201310016

Chip Rd.

Ft. Stewart GA 31314

Status: Excess

Comments: off-site removal only; sf. varies; poor conditions; w/in secured area; Gov't escort only to access/remove property.

3 Buildings

Property Number: 21201310017

McFarland Ave.

Ft. Stewart GA 31314

Location: 1710, 1711, 1712

Status: Excess

Comments: off-site removal only; sf. varies; poor conditions; w/in secured area; Gov't escort only to access/remove property.

Buildings 1303 & 1304

Property Number: 21201310018

Warrior Rd.

Ft. Stewart GA 31314

Status: Excess

Comments: off-site removal only; sf. varies; poor conditions; w/in secured area; Gov't escort only to access/remove property.

Building 1155 & 1156

Property Number: 21201310019

N. Lightening Rd.

Hunter Army Airfield GA 31409

Status: Excess

Comments: off-site removal only; sf. varies; poor conditions; w/in secured area; Gov't escort only to access/remove property.

Buildings 1139 & 1151

Property Number: 21201310020

Veterans Pkwy

Ft. Stewart GA 31314

Status: Excess

Comments: off-site removal only; sf. varies; poor conditions; w/in secured area; Gov't escort only to access/remove property.

Building 1104

Property Number: 21201310022

Frank Cochran Dr.

Hinesville GA 31314

Status: Excess

Comments: off-site removal only; 240 sf.; storage; poor conditions; w/in secured area; Gov't escort required to access/remove property.

Building 1105

Property Number: 21201310023

Veterans Pkwy

Ft. Stewart GA 31314

Status: Excess

Comments: off-site removal only; 7,132 sf.; Maint. Facility; poor conditions; asbestos & lead; w/in secured area; Gov't escort required to access/remove property.

Building 1130

Property Number: 21201310024

Veterans Pkwy

Ft. Stewart GA 31314

Status: Excess

Comments: off-site removal only; 322 sf.; storage; poor conditions; w/in secured area; Gov't escort only to access/remove property.

Building 1132

Property Number: 21201310025

Veterans Pkwy

Ft. Stewart GA 31314

Status: Excess

Comments: off-site removal only; 182 sf.; latrine; poor conditions; w/in secured area; Gov't escort only to access/remove property.

Building 1133

Property Number: 21201310026

Veterans Pkwy

Ft. Stewart GA 31314

Status: Excess

Comments: off-site removal only; 501 sf.; latrine; poor conditions; w/in secured area; Gov't escort only to access/remove property.

Building OT022

Property Number: 21201330005

46 22nd Street

Fort Gordon GA 30905

Status: Unutilized

Comments: no future agency need; off-site removal only; 960 sf.; classroom; 120 months; dilapidated; contamination; closed post; contact Army for accessibility/removal requirements.

Building OT007

Property Number: 21201330006

31 22nd Street

Fort Gordon GA 30905

Status: Unutilized

Comments: off-site removal only; no future agency need; 960 sf.; classroom; 120 months; dilapidated; contamination; closed post; contact Army for accessibility/removal reqs.

3 Buildings

Property Number: 21201330036

Veterans Pkwy.

Fort Stewart GA 31314

Location: 1101, 1108, 1129

Status: Excess

Comments: off-site removal only; poor conditions; contamination; secured area; contact Army for info. on a specific property; accessibility removal reqs.

Building 00TR4

Property Number: 21201330045

43 Pistol Range Road

Whitfield GA 30755

Status: Excess

Comments: off-site removal only; 2,560 sf.; dining facility; 78 yrs. old; poor conditions; contact Army for more info.

Building 1157

Property Number: 21201410033

Hunter Army Airfield

Hunter Army Airfield GA 31409

Status: Excess

Comments: off-site removal only; 5,809 sq. ft.; poor conditions; secured area; gov't escort required; contact Army for more info.

Building 7097

Property Number: 21201440007

Fort Stewart

Ft. Stewart GA 31314

Status: Underutilized

Comments: off-site removal only; no future agency need; relocation difficult due to size/type; 9,520 sq. ft.; child development center; 6+ months vacant; poor conditions; contact Army for more information.

100

Property Number: 21201440008

Hunter Army Airfield

Hunter Army Airfield GA 31409

Status: Excess

Comments: off-site removal only; relocation extremely difficult due to size; 13,331 sq. ft.; classroom; poor conditions; contact Army for more information.

1020

Property Number: 21201440009

Hunter Army Airfield

Hunter Army Airfield GA 31409

Status: Underutilized

Comments: off-site removal only; no future agency need; relocation extremely difficult due to size/type; 39,653 sq.; storage; 1+ month vacant; contact Army for more information.

9002

Property Number: 21201440010

Hunter Army Airfield

Hunter Army Airfield GA 31406

Status: Underutilized

Comments: off-site removal only; no future agency need; relocation difficult due to type; 221 sq. ft.; 12+ months vacant; poor conditions; asbestos; contact Army for more information.

10 Buildings

Property Number: 21201520011

Fort Benning

Fort Benning GA 31905

Location: 00035 (890 sq. ft.); 00036 (890 sq. ft.); 00235 (4,390 sq. ft.); 08001 (288 sq. ft.); 08007 (288 sq. ft.); 08012 (288 sq. ft.); 08014 (288 sq. ft.); 08034(192 sq. ft.); 08582 (192 sq. ft.); 08597 (192 sq. ft.)

Status: Underutilized

Comments: off-site removal; 10-94 yrs. old for buildings respectively above; toilet/shower; laundry; administrative; poor condition; no future agency need; contact Army for more information.

9 Buildings

Property Number: 21201520012

Fort Benning

Fort Benning GA 31905

Location: 08821 (192 sq. ft.), 8781 (1,007 sq. ft.), 08730 (800 sq. ft.), 08729 (192 sq. ft.), 08721 (384 sq. ft.), 08681 (192 sq. ft.), 08637 (384 sq. ft.), 08600 (192 sq. ft.), 08618 (192 sq. ft.)

Status: Underutilized

Comments: off-site removal; 10-50 yrs. old for buildings respectively above; poor condition; toilet/shower, range; no future agency need; contact Army for more information.

2 Buildings

Property Number: 21201520028

Fort Benning

Fort Benning GA 31905

Location: Buildings 04969 (8,416 sq. ft.), 04960 (3,335 sq. ft.)

Status: Unutilized

Comments: off-site removal; 34+ & 48+ yrs. old; vehicle MAINT.; poor conditions; contaminants; restricted access; no future agency need; contact Army for more information.

Building 14

Property Number: 21201540052

Camp Frank D. Merrill

Fort Benning GA 31905

Status: Unutilized

Comments: off-site removal only; 120 sq. ft.; 51+ yrs. old; veh. fuel mogas; poor conditions; contact Army for information.

Building 08638-RPUID 283107

Property Number: 21201540053

Mortar Training Area

off Wildcat Road

Fort Benning GA 31905

Status: Unutilized

Comments: off-site removal only; 192 sq. ft.; 10+ yrs. old; sep toil/shower; poor conditions; contact Army for more information.

Building 08728

Property Number: 21201540054

3279 10th Armored Division Road

Fort Benning GA

Status: Unutilized

Comments: off-site removal only; 192 sq. ft.; 9+ yrs. old; sep toil/shower; poor conditions; contact Army for more information.

3 Buildings

Property Number: 21201610041

Fort Benning

Fort Benning GA 31905

Location: Building 04977 RPUID: 281480 192 sq. ft.; 04978 RPUID: 282355 630 sq. ft.; 04979 RPUID: 282356 400 sq. ft.

Status: Unutilized

Comments: off-site removal only; 11+ & 48+ yrs. old; veh maint shops; haz mat str ins; poor condition; no future agency need; contact Army for more information.

5 Buildings

Property Number: 21201620006

Fort Benning

Fort Benning GA 31905

Location: Building 00485: RPUID: 281444 (148 sq.); 08848: RPUID: 282680 (288 sq.); 08830: RPUID: 282664; (288 sq.) 08020: RPUID: 282782; (192 sq.); 04022: RPUID: 1006195 (144 sq.)

Status: Unutilized

Comments: off-site removal only; 7+-74+ yrs. old; veh; toil/shower; storage; poor conditions; contact Army for more information.

Hawaii

P-88

Property Number: 21199030324

Aliamanu Military Reservation

Honolulu Co: Honolulu HI 96818

Location: Approximately 600 feet from Main Gate on Aliamanu Drive.

Status: Unutilized

Comments: 45,216 sq. ft. underground tunnel complex, pres. of asbestos clean-up required of contamination, use of respirator required by those entering property, use limitations.

3377Z

Property Number: 21201210054

Schofield Barracks

Wahiawa HI 96786

Status: Unutilized

Comments: off-site removal only; 196 sf.; current use: transformer bldg.; poor conditions—needs repairs.

Bldg. 0300B

Property Number: 21201210083

308 Paalaa Uka Pupukea

Wahiawa Co: Honolulu HI 96786

Status: Unutilized

Comments: off-site removal only; 114 sf.; current use: valve house for water tank; fair conditions.

12 Bldgs.

Property Number: 21201220009

Schofield Barracks

Wahiawa HI

Location: 2509, 2510, 2511, 2512, 2513, 2514, 2516, 2517, 3030, 3031, 3032, 3035

Status: Unutilized

Comments: off-site removal only; sf. varies; usage varies; storage; good conditions.

A0300

Property Number: 21201230009

308 Paalaa Uka Pupukea Rd.

Helemano

Wahiawa HI 96786

Status: Unutilized

Comments: off-site removal only; 17.25 X 21ft.; water storage.

Buildings 1421 & 1422 Property Number: 21201310046

510 CW2 Latchum Rd.

Wahiawa HI 97686

Status: Underutilized

Comments: off-site removal only; sf. varies; office & toilet; fair conditions; military reservation.

Buildings 3363, 3366, & 3371

Property Number: 21201310047

Schofield Barracks

Wahiawa HI 96786

Status: Unutilized

Comments: off-site removal only; sf. varies; abandoned; 230 mons. vacant; transformer bldgs.

Building A0750

Property Number: 21201330038

613 Ayers Ave. (Schofield Barracks)

Wahiawa HI 96786

Status: Unutilized

Comments: off-site removal only; no future agency need; 512 sf.; storage; 46 yrs. old; poor conditions; contact Army for more info.

00038

Property Number: 21201410007

Pohakuloa Training Area

Hilo HI 96720

Status: Unutilized

Comments: off-site removal only; 102 sq. ft.; storage; 49+ yrs. old; poor conditions; contact Army for more information.

3 Buildings

Property Number: 21201530046

Joint Base Pearl Harbor Hickam

Joint Base Pearl Harb HI 96860

Location:

Building: 2266 (1,536 sq. ft.); 2267 (1,536 sq. ft.) 2268 (2,190 sq. ft.)

Status: Excess

Comments: off-site removal only; 32+ yrs. old; Child Development Centers; 24 mos. Vacant; poor condition; relocation may not be feasible due to deteriorated condition; contact Army for more information.

Idaho

R1A11

Property Number: 21201320005

16 Miles South

Boise ID 83634

Status: Excess

Comments: off-site removal only; 1,040 sf., dilapidated, repairs a must, temp. shelter, 9 months vacant, has hanta virus presence.

R1A13

Property Number: 21201320015

16 Miles South

Boise ID 83634

Status: Excess

Comments: off-site removal only; 1,040 sf.; temp. shelter; 9 months vacant; dilapidated; Hanta virus; repairs a must.

R1A10

Property Number: 21201320041

16 Miles South

Boise ID 83634

Status: Excess

Comments: off-site removal only; 1,040 sf.; dilapidated; repairs a must; 9 months vacant; Hanta virus.

R1A12

Property Number: 21201320042

16 Miles South

Boise ID 83634

Status: Excess

Comments: off-site removal only; 1,040 sf.; temp. shelter; 9 months vacant; dilapidated; repairs a must; Hanta virus.

R1A15

Property Number: 21201320043

16 Miles South

Boise ID 83634

Status: Excess

Comments: off-site removal only; 1,040 sf.; temp. shelter; 9 months vacant; dilapidated; Hanta virus; repair a must.

Air Force

Land

Illinois

Outer Marker & Bldg. 262

Property Number: 18201630013

South East of Mascoutah off Highbanks Road

Mascoutah IL 62258

Status: Unutilized

Comments: 62+ yrs. old; 333 sq. ft.; unusable, beyond repair; asbestos walls; sits on .87 acres of land; requires easement for roads to access property; contact AF for more information.

Army

Building

Illinois

Building GC444

Property Number: 21201610061

195 E Street

Granite City IL 62040

Location: RPUID: 967743

Status: Unutilized

Comments: off-site removal only; 63+ yrs. old; 21,954 sq. ft.; training center; vacant 1+ mos.; no future agency need; size makes this economically & structurally unfeasible to move; contact Army for more info.

Iowa

Y11Q0

Property Number: 21201330060

Camp Dodge

Johnston IA 50131

Status: Unutilized

Comments: 3,076 sf.; family housing; 816+ months vacant; deteriorated; secured area; escort required; contact Army for accessibility requirements.

2 Buildings

Property Number: 21201330064

Camp Dodge

Johnston IA 50131

Location: Y1200 & TC030

Status: Unutilized

Comments: 1,686 & 1,026 sf. respectively; garage; deteriorated; secured area; escort required; contact Army for accessibility requirements.

Kansas

Building 9109

Property Number: 21201310051

Mallon Rd.

Ft. Riley KS 66442

Status: Unutilized

Comments: off-site removal only; 128 sf.; latrine; deteriorating conditions; located on controlled area; contact Army for more info.

Building 00620

Property Number: 21201320014

Mitchell Terr.

Ft. Riley KS 66442

Status: Excess

Comments: off-site removal only; 12,640 sf.; lodging; deteriorating; asbestos.

Building 09098

Property Number: 21201320016

Vinton School Rd.

Ft. Riley KS 66442

Status: Excess

Comments: off-site removal only; 120 sf.; guard shack; fair/moderate conditions.

Building 07856

Property Number: 21201320017

Drum St.

Ft. Riley KS 66442

Status: Excess

Comments: off-site removal only; 13,493 sf.; dining facility; deteriorating; asbestos.

Building 07636

Property Number: 21201320018

Normandy Dr.

Ft. Riley KS 66442

Status: Excess

Comments: off-site removal only; 9,850 sf.; deteriorating; asbestos.

Building 05309

Property Number: 21201320019

Ewell St.

Ft. Riley KS 66442

Status: Excess

Comments: off-site removal only; 23,784 sf.; lodging; deteriorating; asbestos.

Building 00918

Property Number: 21201320020

Caisson Hill Rd.

Ft. Riley KS 66442

Status: Excess

Comments: off-site removal only; 3,536 sf.; admin. general purpose; deteriorating; possible contamination; secured area; however, prior approval to access is needed; contact Army for more info.

Building 00621

Property Number: 21201320021

Mitchell Terr.

Ft. Riley KS 66442

Status: Excess

Comments: off-site removal only; 12, 640 sf.; lodging; deteriorating; asbestos.

Building 7610

Property Number: 21201410049

Fort Riley

Fort Riley KS 66442

Status: Excess

Comments: off-site removal only; may not be feasible to relocate due to sq. ft./type of structure; 41,892 sq. Ft. barracks contact Army for more information.

8 Buildings

Property Number: 21201420002

Fort Riley

610 Warrior Rd.

Fort Riley KS 66442

Location: 610, 7610, 7614,7616, 7842, 7846, 7850, 8063

Status: Excess

Comments: off-site removal only; major repairs needed, mold and asbestos; secured area; contact Army for information on a specific property and accessibility/removal request.

502

Property Number: 21201430009

Fort Riley

Fort Riley KS 66442

Location: 502

Status: Excess

Comments: off-site removal only; 316 sq. ft.; office; structure type: Police Station; 55+ years old; fair condition; contact Army for more information.

Kentucky

Building A7140

Property Number: 21201530102

Fort Campbell

Ft. Campbell KY 42223

Status: Underutilized

Comments: 414 sq. ft.; 56+ yrs. old; fair conditions; registration required on daily basis to access property; contact Army for more information.

3 Buildings

Property Number: 21201610036

Fort Campbell

Fort Campbell KY 42223

Location: Buildings 04053 (22,053 sq. ft.); 04057 (33,104 sq. ft.); 04067 (44,106 sq. ft.)

Status: Underutilized

Comments: 38+ yrs. old; barracks; fair condition; no future agency need; daily registration renewal to access property; contact Army for more information.

2 Buildings

Property Number: 21201620004

Fort Campbell

Fort Campbell KY 42223

Location: A0127: RPUID: 582404 (400 sq. ft.); B0127: RPUID: 320594 (783 sq. ft.)

Status: Underutilized

Comments: 25+-27+ yrs. old; heating plant; refrig/AC building; fair condition; prior approval needed to gain access; contact Army for more information.

Louisiana

7604B

Property Number: 21201530038

Fort Polk

Fort Polk LA 71459

Status: Unutilized

Comments: off-site removal only; no future agency need; 3,740 sq. ft.; contact Army for more information.

7604C

Property Number: 21201530039

Fort Polk

Fort Polk LA 71459

Status: Unutilized

Comments: off-site removal only; no future agency need; 3,740 sq. ft.; relocatable company building; contact Army for more information.

7308E

Property Number: 21201530040

Fort Polk

Fort Polk LA 71459

Status: Unutilized

Comments: off-site removal only; no future agency need; 5,396 sq. ft.; relocatable office; contact Army for more information.

7604D

Property Number: 21201530045

Fort Polk

Ft. Polk LA 71459

Status: Unutilized

Comments: off-site removal only; no future agency need; 3,740 sq. ft.; relocatable office; contact Army for more information.

9 Buildings

Property Number: 21201530073

Fort Polk

Ft. Polk LA 71459

Location: 00002 (190857; 4,070 sq. ft.); 00003 (292997; 97 sq. ft.); 02531 (191515; 4,830 sq. ft.); 02599 (191521; 159 sq. ft.); 04250 (191272; 240 sq. ft.); 07526 (299361; 480 sq. ft.); 09787 (293242; 608 sq. ft.); 09806 (188086; 2,834 sq. ft.); M0350 (188086)

Status: Underutilized

Comments: off-site removal only; no future agency need; removal difficult due to type/size; poor conditions; contact Army for more details on a specific property.

Building 07043

Property Number: 21201530101

Fort Polk

Fort Polk LA 71459

Status: Underutilized

Comments: off-site removal only; 1,200 sq. ft.; maintenance building; poor conditions; contact Army for more information.

2 Buildings

Property Number: 21201610051

Fort Polk

Fort Polk LA 71459

Location: 02501-RPUID: 299625 (3,308 sq. ft.); 00830-RPUID: 301695 (82,431 sq. ft.)

Status: Underutilized

Comments: off-site removal only; 39+-74+ yrs. old; shed; org club; poor condition; maybe difficult to move; contact Army for more information.

Building 04274

Property Number: 21201610066

4274 California Ave.,

Fort Polk LA 71459

Location: RPUID: 292651

Status: Unutilized

Comments: off-site removal only; 63+ yrs. old; 240 sq. ft.; toilet/shower; poor conditions; contact Army for more information.

Maryland

5 Buildings

Property Number: 21201330008

Ft. George G. Meade

Ft. George MD 20755

Location: 4, 239, 700, 2790, 8608

Status: Unutilized

Comments: off-site removal only; no future agency need; sf. varies; fair to deteriorating conditions; secured area; contact Army re. info. on a specific property & accessibility/removal reqs.

GSA

Building

Maryland

Suitland Trailer

Property Number: 54201630016

4401 Suitland Rd.

Suitland MD 20746

Location: off-site removal only; no future agency need; 12,000 gsf; office; relocation extremely difficult due to size; transferee responsible for all expenses related to removal of property; property mothballed for 8+ years; located on highly secured federal campus; major repairs/rehab needed.

Status: Unutilized

Comments: contact GSA for more details on accessibility and other conditions.

GSA Number: MD1838.

Navy

Building

Maryland

Transformer Vault Structure

Property Number: 77201620008

#155

47713 Buse Rd.

Patuxent River MD 20670

Status: Unutilized

Comments: off-site removal only; 341 sq. ft.; no future agency need; PCBs/asbestos; remediation needed; contact Navy for more info.

Agriculture

Michigan

Raco Work Center

Property Number: 15201640015

9200 South Ranger Road

Brimley MI 49715

Status: Underutilized

Comments: off-site removal only; 81+ yrs. old; 442 sq. ft.; equipment/material storage; roof needs replaced; lead based paint; no future agency need; contact Agriculture for more information.

Raco Work Center

Property Number: 15201640016

9200 South Ranger Road

Brimley MI 49715

Status: Underutilized

Comments: off-site removal only; 82+ yrs. old; 528 sq. ft.; equipment/material storage; roof needs replaced; lead based paint; no future agency need; contact Agriculture for more information.

Moran Work Center

Property Number: 15201640017

1790 W. Adolfus Street

Moran MI 49760

Status: Underutilized

Comments: off-site removal only; 45+ yrs. old; 85 sq. ft.; tire storage; building needs replacement; no future agency need; contact Agriculture for more information.

Moran Work Center

Property Number: 15201640018

1790 W. Adolfus Street

Moran MI 49760

Location: Off-site removal only; 80+ yrs.; 2,240 sq. ft.; removal extremely difficult; no future agency need; office/storage; poor condition; lead base paint; roof needs to be replaced

Status: Underutilized

Comments: not ADA complaint; contact Agriculture for more information.

Moran Work Center

Property Number: 15201640019

1790 W. Adolfus Street

Moran MI 49760

Status: Underutilized

Comments: off-site removal only; 68+ yrs. old; 1,160 sq. ft.; office/storage; poor condition; lead based paint; roof needs to replaced; no future agency need; contact Agriculture for more information.

Moran Work Center

Property Number: 15201640020

1790 W. Adolfus Street

Moran MI 49760

Location: Off-site removal only; 80+ yrs. old; 300 sq. ft.; garage/fuel storage; no future agency need; poor condition

Status: Underutilized

Comments: roof needs to be replaced; lead base paint; not ADA complaint; contact Agriculture for more information.

Raco Work Center

Property Number: 15201640025

Raco Fire Cache

Brimley MI 49715

Status: Underutilized

Comments: off-site removal only; 698 sq. ft.; no future agency need; rehab needed; lead present; contact Agriculture for more information.

Army

Building

Michigan

6 Buildings

Property Number: 21201340026

Detroit Arsenal

Warren MI 48092

Location: WH001 (4,680 sq. ft.); WH002 (3,910 sq. ft.); WH003 (5,256 sq. ft.); WH004 (3,840 sq. ft.) WH005 (5,236 sq. ft.); WH006 (5,940 sq. ft.)

Status: Unutilized

Comments: off-site removal only; no future agency need; residential; repairs needed; contamination; secured area; contact Army for more information on a specific property accessibility requires.

6 Buildings

Property Number: 21201340027

Detroit Arsenal

Warren MI 48092

Location: WH013 (4,680 sq.); WH014 (5,236 sq.); WH015 (3,000 sq.); WH016 (3,840 sq.); WH017 (3,000 sq.); WH018 (5,940 sq.)

Status: Unutilized

Comments: off-site removal only; no future agency need; residential; repairs needed; contamination; secured area; contact Army for more information on a specific property & accessibility requirements.

6 Building

Property Number: 21201340028

Detroit Arsenal

Warren MI 48092

Location: WH007 (3,840 sq. ft.); WH008 (5,940 sq. ft.); WH009 (5,236 sq. ft.); WH010 (4,680 sq. ft.); WH011 (5,236 sq. ft.); WH012 (5,236 sq. ft.)

Status: Unutilized

Comments: off-site removal only; no future agency need; residential; repairs needed; contamination; secured area; contact Army for more information on a specific property and accessibility requires.

6 Buildings

Property Number: 21201340029

Detroit Arsenal

Warren MI 48092

Location: WH019 (4,680 sq.); WH020 (5,940 sq.); WH021 (5,940 sq.); WH022 (4,680 sq.); WH023 (5,940 sq.); WH024 (1,760 sq.)

Status: Unutilized

Comments: off-site removal only; no future agency need; residential; repairs needed; contamination; secured area; contact Army for more information on a specific property & accessibility requirements.

4 Buildings

Property Number: 21201340031

Detroit Arsenal

Warren MI 48092

Location: WH025 (1,760 sq.); WH026 (1,760 sq. ft.); WH027 (1,760 sq.); WH028 (400 sq.)

Status: Unutilized

Comments: off-site removal only; no future agency need; residential; repairs needed; contamination; secured area; contact Army for more information on a specific property & accessibility requirements.

Minnesota

18 Bldgs.

Property Number: 21201210059

1245 Hwy 96 West

Arden Hills Army TRNG Site

Arden Hills MN 55112

Location: 12155, 12156, 12157, 01200, 01201, 01202, 01203, 01204, 01205, 01206, 04202, 11218, 11219, 11220, 11221, 11222, 11223, 04203

Status: Unutilized

Comments: off-site removal only; sf. varies; current use: storage; poor conditions-need repairs.

2 Buildings

Property Number: 21201640010

Rusk County Veterans Memorial

Ladysmith MN 54848

Location: DY001-16,257 sq. ft. (225300); DY002-2,280 sq. ft. (225301)

Status: Excess

Comments: off-site removal only; relocation extremely difficult due to size/type; fair/poor conditions; contact Army for more info. on a specific property listed above.

Missouri

Bldg. T2139

Property Number: 21199420446

Fort Leonard Wood

Ft. Leonard Wood Co: Pulaski MO 65473-5000

Status: Underutilized

Comments: 3663 sq. ft., 1-story, presence of lead base paint, most recent use—admin/gen. purpose, off-site use only.

Bldg. 2167

Property Number: 21199820179

Fort Leonard Wood

Ft. Leonard Wood Co: Pulaski MO 65473-5000

Status: Unutilized

Comments: 1296 sq. ft., presence of asbestos/lead paint, most recent use—admin., off-site use only.

Bldgs. 2192, 2196, 2198

Property Number: 21199820183

Fort Leonard Wood

Ft. Leonard Wood Co: Pulaski MO 65473-5000

Status: Unutilized

Comments: 4720 sq. ft., presence of asbestos/lead paint, most recent use—barracks, off-site use only.

P0002

Property Number: 21201510006

88th Reginal Support Command

Cape Girardeau MO 63701

Status: Unutilized

Comments: off-site removal only; 96 sq. ft.; storage; no future agency need; 14+ mons. vacant; asbestos; contact Army for more information.

Building 5332

Property Number: 21201610052

Range 4

Fort Leonard Wood MO 65473

Location: RPUID: 611105

Status: Unutilized

Comments: 15+ yrs. old; 80 sq. ft.; weapons; 12+ mos. vacant; poor conditions; contact Army for more information.

Building #5333

Property Number: 21201610058

Range 4

Fort Leonard Wood MO 65473

Location: RPUID: 578451

Status: Unutilized

Comments: 15+ yrs. old; 80 sq. ft.; weapons; 12+ mos. vacant; not adequate for reuse; contact Army for more information.

Building 319A

Property Number: 21201620023

Intersection of Headquarters and Illinois Ave.

Fort Leonard Wood MO 65473

Location: RPUID: 1239157

Status: Unutilized

Comments: 4+ yrs. old; 384 sq. ft.; recreation; adequate condition; contact Army for more information.

Air Force

Building

Nebraska

3 Buildings

Property Number: 18201620035

2504 Roman Hruska Dr.

Offutt AFB NE 68113

Location: Building 5082 (782 sq. ft.); 5083 (1,700 sq. ft.), 5084 (5,176 sq. ft.)

Status: Unutilized

Comments: 44+ yrs. old; swimming pool, bath house; water treatment; 6+ mos. vacant; no future agency need; contact AF for more information.

COE

Building

Nevada

Gremlin Park Shelter House

Property Number: 31201640015

#30007 HARLAN-29039

70788 Corps Rd. A

Republican City NE 68971

Status: Excess

Comments: 1,620 sq. ft.; 66+ yrs. old; recreation for day use; fair conditions; contact COE for more details on conditions.

Agriculture

Building

Nevada

Zephyr Cove Resort

Property Number: 15201620005

0519 Z1304 Zephyr Cove Riding Stables Shed

F1167.004531

Zephyr Cove NV 89448

Location: 760 US-50

Status: Unutilized

Comments: off-site removal only; no future agency need; 130 sq. ft.; poor condition; asbestos & lead present; contact Agriculture for more information.

Zephyr Cove Resort

Property Number: 15201620017

0519 Z1308 Zephyr Cove Stables

F575010315 Tackroom #2

Zephyr Cove NV 89448

Location: 760 US-50

Status: Unutilized

Comments: off-site removal only; no future agency need; 214 sq. ft.; poor conditions; asbestos & lead present; contact Agriculture for more information.

Air Force

Building

Nevada

Dormitory; 552

Property Number: 18201640007

Nellis AFB

Nellis AFB NV 89191

Status: Unutilized

Comments: 41,800 sq. ft.; dorm (220 rooms, avg. 290 sq. ft.) good fair conditions; 12+ mos. vacant; escort required to access property; contact AF for more details on access & other conditions.

Medical Facility; 1305

Property Number: 18201640008

Nellis AFB

Nellis AFB NV 89191

Status: Unutilized

Comments: 8,723 sf., storage; 12+ mos. vacant; good to fair conditions; escort required to access property; contact AF for more details on access & other conditions.

Traffic Check House; 1058

Property Number: 18201640009

Nellis AFB

Nellis AFB NV 89191

Status: Unutilized

Comments: 400 sf., 12+ mos. vacant; good to fair condition; escort required to access property; contact AF for more details on accessibility & other conditions.

Traffic Check House; 698

Property Number: 18201640010

Nellis AFB

Nellis AFB NV 89191

Status: Unutilized

Comments: 144 sf.; 12+ mos. vacant; good to fair conditions; escort required; contact AF for more details on access & other conditions.

Maintenance Hanger

Property Number: 18201640021

Creech AFB

Creech ABF NV 89018

Status: Unutilized

Comments: 5,872 sf., 12+ months; good to fair conditions; storage; escort required; contact AF for access & other conditions.

Army

Building

New Jersey

4 Bldgs.

Property Number: 21201220011

Picatinny Arsenal

Dover NJ 07806

Location: 1179, 1179A, 1179C, 1179D

Status: Unutilized

Comments: off-site removal only; sf varies; usage varies; need repairs; contamination; remediation required; secured area; need prior approval to access property; contact Army for more details.

4 Building

Property Number: 21201240026

Route 15 North

Picatinny Arsenal NJ 07806

Location: 3701, 3702, 3706, 3709

Status: Unutilized

Comments: off-site removal only, sq. varies, moderate conditions, restricted area; contact Army for information on accessibility removal and specific details on a property.

Building 00063

Property Number: 21201310039

Picatinny Arsenal

Picatinny Arsenal NJ 07806

Status: Underutilized

Comments: off-site removal only; 44,000 sf.; storage; very poor conditions; w/in secured area; contact Army for accessibility/removal requirements.

Building 01186

Property Number: 21201310040

Pictinny Arsenal

Dover NJ 07806

Status: Unutilized

Comments: off-site removal only; 192 sf.; storage; very poor conditions; w/in restricted area; contact Army for info. on accessibility/removal requirements.

Building 03223

Property Number: 21201330046

Picatinny Arsenal

Dover NJ 07806-5000

Status: Unutilized

Comments: off-site removal only; no future agency need; 312 sf.; 102 yrs.-old; poor conditions; secured area; contact Army for more info.

New York

Bldg. 2218

Property Number: 21200510067

Stewart Newburg USARC

New Windsor Co: Orange NY 12553-9000

Status: Unutilized

Comments: 32,000 sq. ft., poor condition, requires major repairs, most recent use—storage/services.

7 Bldgs.

Property Number: 21200510068

Stewart Newburg USARC

New Windsor Co: Orange NY 12553-9000

Location: 2122, 2124, 2126, 2128, 2106, 2108, 2104

Status: Unutilized

Comments: sq. ft. varies, poor condition, needs major repairs, most recent use—storage/services.

Bldgs. 02700 and 22630

Property Number: 21201210080

Fort Drum

Fort Drum NY 13602

Status: Underutilized

Comments: off-site removal only; sf. varies; current use: varies; need repairs.

VA

Building

New York

Compensated Work Therapy

Property Number: 97201610001

(CWT) Transitional Residences

43 Tampa Ave.

Albany NY 12208

Status: Unutilized

Comments: 85+ yrs. old; 1,496 sq. ft.; residential; heating system inefficient; no future agency need; contact kelli.witt@va.gov for more information.

Compensated Work Therapy

Property Number: 97201610002

Property (CWT) Transitional Residences

223 Delaware Ave.,

Delmar NY 12054

Status: Unutilized

Comments: 124+ yrs. old; 1,720 sq. ft.; residential; heating system inefficient; significant water damage to interior and utility systems; contact kelli.witt@va.gov for more information.

Compensated Work Therapy

Property Number: 97201610003

Property (CWT) Transitional Residences

893 5th Avenue

Troy NY 12181

Location: Sits on 0.06 acres of land

Status: Unutilized

Comments: 85+ yrs. old; 2,280 sq. ft.; residential; water damage to walls; no future agency need; contact kelli.witt@va.gov for more information.

Army

Building

North Carolina

Building 42843

Property Number: 21201240034

Ft. Bragg

Ft. Bragg NC 28310

Location: 42843

Status: Underutilized

Comments: Located in a secured area, public access is denied and no alternative method to gain access without compromising national security.

Building D1209

Property Number: 21201330069

4285 Gruber Road

Ft. Bragg NC 28308

Status: Unutilized

Comments: 15,327 sf; 21 yrs. old; extensive repairs needed; secured area; extensive background check required; contact Army for accessibility requirements.

D3039

Property Number: 21201330070

3912 Donovan Street

Ft. Bragg NC 28308

Status: Unutilized

Comments: 13,247 sf.; 42 yrs. old; dining facility; extensive repairs; extensive background check; secured area; contact Army for accessibility requirements.

3 Buildings

Property Number: 21201540061

Fort Bragg

Ft. Bragg NC 28310

Location: Q3113-1034505 (64 sq. ft.); Q3414-1034511 (64 sq. ft.); Q2322-296150 (17 sq. ft.)

Status: Unutilized

Comments: very poor conditions; contact Army for more information on a specific property listed above.

Army

Building

Ohio

125

Property Number: 21201230025

1155 Buckeye Rd.

Lima OH 45804

Location: Joint Systems Manufacturing Center

Status: Underutilized

Comments: off-site removal only; 2,284 sf.; use: storage; poor conditions; asbestos identified; secured area; contact Army re: accessibility requirements.

Agriculture

Building

Oklahoma

03.50713 621700B019

Property Number: 15201610005

Storage Entomology (USDA/ARS)

07334 Plant Science & Water Conserv.

Stillwater OK 74075

Status: Unutilized

Comments: off-site removal only; no future agency need; removal difficult due to type/size; 1,440 sq. ft.; fair conditions; contact Agriculture for more info.

Army

Building

Oklahoma

Bldg. T-838, Fort Sill

Property Number: 21199220609

838 Macomb Road

Lawton Co: Comanche OK 73503-5100

Status: Unutilized

Comments: 151 sq. ft., wood frame, 1 story, off-site removal only, most recent use—vet facility (quarantine stable).

Bldg. T-3325, Fort Sill

Property Number: 21199240681

3325 Naylor Road

Lawton Co: Comanche OK 73503-5100

Status: Unutilized

Comments: 8832 sq. ft., 1 story wood frame, needs rehab, off-site use only, most recent use—warehouse.

Bldg. T-810

Property Number: 21199730350

Fort Sill

Lawton Co: Comanche OK 73503-5100

Status: Unutilized

Comments: 7205 sq. ft., possible asbestos/lead paint, most recent use—hay storage, off-site use only.

Bldgs. T-837, T-839

Property Number: 21199730351

Fort Sill

Lawton Co: Comanche OK 73503-5100

Status: Unutilized

Comments: approx. 100 sq. ft. each, possible asbestos/lead paint, most recent use—storage, offsite use only.

Bldg. P-934

Property Number: 21199730353

Fort Sill

Lawton Co: Comanche OK 73503-5100

Status: Unutilized

Comments: 402 sq. ft., possible asbestos/lead paint, most recent use—storage, off-site use only.

Bldg. T-2184

Property Number: 21199730364

Fort Sill

Lawton Co: Comanche OK 73503-5100

Status: Unutilized

Comments: 454 sq. ft., possible asbestos/lead paint, most recent use—storage, off-site use only.

Bldgs. T-3001, T-3006

Property Number: 21199730383

Fort Sill

Lawton Co: Comanche OK 73503-5100

Status: Unutilized

Comments: approx. 9300 sq. ft., possible asbestos/lead paint, most recent use—storage, off-site use only.

Bldg. T-3314

Property Number: 21199730385

Fort Sill

Lawton Co: Comanche OK 73503-5100

Status: Unutilized

Comments: 229 sq. ft., possible asbestos/lead paint, most recent use—office, off-site use only.

Bldg. T-7775

Property Number: 21199730419

Fort Sill

Lawton Co: Comanche OK 73503-5100

Status: Unutilized

Comments: 1452 sq. ft., possible asbestos/lead paint, most recent use—private club, off-site use only.

4 Bldgs.

Property Number: 21199910133

Fort Sill

P-617, P-1114, P-1386, P-1608

Lawton Co: Comanche OK 73503-5100

Status: Unutilized

Comments: 106 sq. ft., possible asbestos/lead paint, most recent use—utility plant, off-site use only.

Bldg. P-746

Property Number: 21199910135

Fort Sill

Lawton Co: Comanche OK 73503-5100

Status: Unutilized

Comments: 6299 sq. ft., possible asbestos/lead paint, most recent use—admin., off-site use only.

Bldg. S-6430

Property Number: 21199910156

Fort Sill

Lawton Co: Comanche OK 73503-5100

Status: Unutilized

Comments: 2080 sq. ft., possible asbestos/lead paint, most recent use—range support, off-site use only.

Bldg. T-6461

Property Number: 21199910157

Fort Sill

Lawton Co: Comanche OK 73503-5100

Status: Unutilized

Comments: 200 sq. ft., possible asbestos/lead paint, most recent use—range support, off-site use only.

Bldg. T-6462

Property Number: 21199910158

Fort Sill

Lawton Co: Comanche OK 73503-5100

Status: Unutilized

Comments: 64 sq. ft., possible asbestos/lead paint, most recent use—control tower, off-site use only.

Bldg. P-7230

Property Number: 21199910159

Fort Sill

Lawton Co: Comanche OK 73503-5100

Status: Unutilized

Comments: 160 sq. ft., possible asbestos/lead paint, most recent use—transmitter bldg., off-site use only.

6 Buildings

Property Number: 21201540034

Fort Sill

Ft. Sill OK 73503

Location: 1500 (100 SQ. FT.; Fueling/POL/Wash Support Bldg.); 1501 (9,802 SQ. FT.; Vehicle Maintenance Shop); 1502 (9,938 SQ. FT.; Vehicle Maintenance Shop); 1503 (10,190 SQ. FT.; Limited Use Instructional Bldg.); 1521 (80 SQ. FT.; Oil Storage Building); 2590 (3,626 SQ. FT.; ADMIN GENERAL PURPOSE)

Status: Unutilized

Comments: off-site removal only; no future agency need; removal difficult due to type/size; 6+ mons. Vacant; contamination; contact Army for more information on a specific property listed above.

6 Buildings

Property Number: 21201610027

Fort Sill

Fort Sill OK 73503

Location: 852 (13,379 sq.); 1929 (3,200 sq.); 851 (14,360 sq.); 850 (22,941 sq.); 745 (6,533 sq. ft.); 2037 (5,197 sq. ft.)

Status: Unutilized

Comments: off-site removal; 52+-100+ yrs. old; storage; admin. building; enlisted uph; vacant 6+ mos.; no future agency need; due to size, may not be feasible to move; contact Army for more information.

9 Buildings

Property Number: 21201610028

Fort Sill

Fort Sill OK 73503

Location: 2870 (3,658 sq.); 3682 (23,502 sq.); 2873 (3,658 sq.); 2874 (3,872 sq.); M6307 (94 sq.); 6305 (879 sq.); 2875 (3,682 sq.); 2871 (3,872 sq.); 2872 (3,658 sq.)

Status: Unutilized

Comments: off-site removal only; 28+-75+ yrs. old; 6+ mos. vacant; HQ. bldg.; general purpose; training; no future agency need; due to size, may not be feasible to move; contact Army for more information.

7 Buildings

Property Number: 21201620020

Fort Sill

Fort Sill OK 73503

Location: 3336 (8,883 sq.); 1620 (800 sq.); 2598 (3,670 sq.); 2599 (3,670 sq.); 1608 (108 sq.); 3602 (8,883 sq.); 4744 (2,108 sq.)

Status: Unutilized

Comments: off-site removal only; no future agency need; 21+-82+ yrs. old; sq. ft. above; warehouse; admin.; toilet/shower; instruction bldg.; 6+mos. vacant; contact Army for more information.

COE

Building

Oklahoma

SWT-Skiatook Lake

Property Number: 31201640009

Tall Chief Cove & Twin Points

HC 67 Box 135

Skiatook OK 74070

Location: TCAA13-160 sq. ft.; TPAA06-112 sq. ft.

Status: Unutilized

Comments: off-site removal only; no future agency need; gatehouse; deteriorated; repairs needed; contact COE for more info. on accessibility & a specific property listed above.

Agriculture

Building

Oregon

4 Buildings

Property Number: 15201640027

Dale Buildings 007655 00

Dale OR 97869

Location: 2830 (dale Lagoon Pumphouse) 14292010616; 2630 (Dale Old Tree Cooler (Rec. Storage)) 1640.009091; 2318 (Dale Pressure Reducing Enclosure) 1904.009091; 1847 (dale Utilities Bldg.) 1628.009091

Status: Excess

Comments: off-site removal only; relocation extremely difficult due to size & type; 2830-48 sq. ft.; poor conditions; non-friable asbestos; & lead present; contact Agriculture for more details on a property listed above.

Army

Building

Pennsylvania

Building 01015

Property Number: 21201320031

11 Hap Arnold Blvd.

Tobyhanna PA 18466

Status: Unutilized

Comments: off-site removal only; 3,120 sf.; recruiting station; 1 month vacant; poor conditions; asbestos; secured area; contact Army for more info.

Building 01001

Property Number: 21201320035

11 Hap Arnold Blvd.

Tobyhanna PA 18466

Status: Excess

Comments: off-site removal only; 4,830 sf.; youth center/admin.; 1 month vacant; poor conditions; asbestos; secured area; contact Army for more info.

Puerto Rico

2 Buildings

Property Number: 21201540057

USAG Fort Buchanan RQ327

Fort Buchanan PR 00934

Location: 01024 (300 sq. ft.; storage); 01026 (300 sq. ft.; storage)

Status: Excess

Comments: off-site removal only; poor conditions; contact Army for more information on a property listed above.

Tennessee

00869

Property Number: 21201430036

Fort Campbell

Fort Campbell TN 42223

Status: Excess

Comments: 3,076 sq. ft.; storage; fair conditions; asbestos in floor tiles; secured area; contact Army for more information.

07612

Property Number: 21201430044

Fort Campbell

Fort Campbell TN 42223

Status: Excess

Comments: 600 sq. ft.; storage; fair condition; secured area; contact Army for more information.

9 Buildings

Property Number: 21201440002

Fort Campbell

Ft. Campbell TN 42223

Location: 00039; 00846; 05123; 05638; 05640; 05641; 05646; 07540; 07811.

Status: Excess

Comments: off-site removal only; relocation may be extremely difficult due to size/type; sq. ft. varies; poor conditions; contamination; contact Army for more information.

03R28, 02r28, & 01R28

Property Number: 21201440005

Fort Campbell

Ft. Campbell TN 42223

Status: Underutilized

Comments: off-site removal only; no future agency need; 552 sq. ft.; range support facility; major repairs; secured area; contact Army for more information.

05127

Property Number: 21201440058

Fort Campbell

Ft. Campbell TN 42223

Status: Excess

Comments: off-site removal only; 224 sq. ft.; storage; fair conditions; contact Army for more information on accessibility/removal requirements.

4 Buildings

Property Number: 21201440059

Fort Campbell

Ft. Campbell TN 42223

Location: 05211 (320 sq. ft.); 05665 (800 sq. ft.); 00100 (800 sq. ft.); 01604 (126 sq. ft.)

Status: Excess

Comments: off-site removal only; fair conditions; usage varies; contact Army for more information on a specific property.

06907

Property Number: 21201530029

Ft. Campbell

Ft. Campbell TN 42223

Status: Unutilized

Comments: 2,581 sq. ft.; office; 50+ yrs. old; fair conditions; needs repair; daily repair; contamination; daily registration required to access property; contact Army for more information.

3 Buildings

Property Number: 21201540017

Fort Campbell

Ft. Campbell TN

Location: 6995 (RPUID: 594789; 3,687 sq. ft.; office); 07825 (RPUID: 590376; 15,111 sq. ft.; Ammo Repair); A6924 (RPUID: 598990; 3,688 sq. ft.; office)

Status: Unutilized

Comments: fair to poor conditions; asbestos present; contact Army for more information on a specific property listed above.

Building 763

Property Number: 21201630020

Mississippi Avenue

Fort Campbell TN 42223

Location: RPUID: 584686

Status: Excess

Comments: 19+ yrs. old; 3,055 sq. ft.; maintenance shop; fair condition; prior approval needed to gain access; contact Army for more information.

2 Buildings

Property Number: 21201630025

Fort Campbell

Fort Campbell TN 42223

Location: Building 05R28-RPUID: 233469, 7874-RPUID: 594209

Status: Unutilized

Comments: 27+ and 63+ yrs. old; 3,324 sq. ft.; office/storage; toilet/shower; 3+ and 5+ mos. vacant; poor condition; contact Army for more information.

7820-590375

Property Number: 21201630038

Fort Campbell

Fort Campbell TN 42223

Status: Unutilized

Comments: 3,224 sq. ft.; poor conditions; drum repair facility; 6+ months vacant; sewage contamination—remediation needed; daily approval to access property; contact Army for more details.

9 Buildings

Property Number: 21201630039

Fort Campbell

Fort Campbell TN 42223

Location: 07862-2,171 sq. ft. (570558); 07863-2,171 sq. ft. (584687); 07865-2,171 sq. ft. (563162); 02525-4,800 sq. ft.; (611262); 07819-7,750 sq. ft. (580705); 07821-648 sq. ft.; (229972); 078656-8,618 sq. ft. (586791); 07860-2,171 sq. ft. (570557); 07861-2,171 sq. ft. (614055)

Status: Underutilized

Comments: fair conditions; usage varies; daily approval to access; remediation needed; contact Army for more details on a specific property listed above.

Agriculture

Building

Texas

Building 43 Office

Property Number: 15201630008

620240B043; 2881 F& B Rd.

College Station TX

Location: off-site removal only; no future agency need

Status: Unutilized

Comments: 1,100 sq. ft.; office/cotton field research; 12+ months vacant; moderate conditions; minor repairs & painting; needs new HVAC; contact Agriculture for more details.

Army

Building

Texas

Bldgs. 04281, 04283

Property Number: 21200720085

Fort Hood

Bell TX 76544

Status: Excess

Comments: 4000/8020 sq. ft., most recent use—storage shed, off-site use only.

Bldg. 04285

Property Number: 21200720087

Fort Hood

Bell TX 76544

Status: Excess

Comments: 8000 sq. ft., most recent use—storage shed, off-site use only.

Bldg. 04286

Property Number: 21200720088

Fort Hood

Bell TX 76544

Status: Excess

Comments: 36,000 sq. ft., presence of asbestos, most recent use—storage shed, off-site use only.

Bldg. 04291

Property Number: 21200720089

Fort Hood

Bell TX 76544

Status: Excess

Comments: 6400 sq. ft., presence of asbestos, most recent use—storage shed, off-site use only.

Bldg. 00324

Property Number: 21200810049

Fort Hood

Bell TX 76544

Status: Unutilized

Comments: 13,319 sq. ft., most recent use—roller skating rink, off-site use only.

Bldg. 04449

Property Number: 21200810056

Fort Hood

Bell TX 76544

Status: Unutilized

Comments: 3822 sq. ft., most recent use—police station, off-site use only.

B-42

Property Number: 21201210007

Fort Hood

Ft. Hood TX 76544

Status: Excess

Comments: off-site removal only; 893 sq. ft.; current use: storage; asbestos identified.

B-1301

Property Number: 21201220001

Ft. Bliss

Ft. Bliss TX 79916

Status: Underutilized

Comments: off-site removal only; 18,739 sf.; current use: thrift shop; poor conditions; need repairs.

Bldg. 7194

Property Number: 21201220002

Ft. Bliss

Ft. Bliss TX 79916

Status: Unutilized

Comments: off-site removal only; 2,125 sf.; current use: housing; poor conditions—need repairs; asbestos & lead identified; need remediation.

Building 6951

Property Number: 21201240010

11331 Montana Ave.

Ft. Bliss TX 79916

Status: Excess

Comments: off-site removal only; 288 sf.; utility bldg.; poor conditions; limited public access; contact Army for info. on accessibility/removal.

Building 6942

Property Number: 21201240011

11331 Montana Ave.

Ft. Bliss TX 79916

Status: Excess

Comments: off-site removal only; 1,059 sf.; storage; poor conditions; limited public access; contact Army for info. on accessibility/removal.

Bldg. 2432

Property Number: 21201240013

Carrington Rd.

Ft. Bliss TX 79916

Status: Excess

Comments: off-site removal only; 180 sf.; dispatch bldg.; poor conditions; limited public access; asbestos/lead identified; contact Army for info. on accessibility/removal.

Building 50

Property Number: 21201240014

50 Slater Rd.

Ft. Bliss TX 79916

Status: Excess

Comments: off-site removal only; 9,900 sf.; office; poor conditions; limited public access; asbestos/lead identified; contact Army for info. on accessibility/removal.

2 Building

Property Number: 21201330029

Fort Bliss

Fort Bliss TX 79916

Location: 05015 (22,915 sf.); 05019 (23,495 sf.)

Status: Unutilized

Comments: off-site removal only; no future agency need; poor conditions; 6+months vacant; contact Army for info. on accessibility; removal reqs.

4285

Property Number: 21201430019

Fort Hood

Fort Hood TX 76544

Location: 4285

Status: Unutilized

Comments: off-site removal only; no future agency need; semi-perm. Structure type; 10,552 sq. ft.; removal may be difficult due to size; poor condition; secured area; contact Army for more information.

2 Buildings

Property Number: 21201430020

Fort Hood

Fort Hood TX 76544

Location: 4461 (6,515 sq. ft.); 4611 (3,311 sq. ft.)

Status: Excess

Comments: off-site removal only; removal may be difficult due to size/type; fair to poor condition; asbestos present in building 4611; secured area; contact Army for more information.

4408

Property Number: 21201430021

Fort Hood

Fort Hood TX 76544

Location: 4408

Status: Excess

Comments: off-site removal only; semi-perm. Structure type; 9,812 sq. ft.; removal difficult due to size; fair condition; secured area; contact Arm for more information.

9 Buildings

Property Number: 21201430030

Fort Hood

Fort Hood TX 76544

Location: 4640 (1,606 sq. ft.); 4641 (2,021 sq. ft.); 4644 (4,080 sq. ft.); 4656 (4,045 sq. ft.); 4657 (4,040 sq. ft.); 36019 (3,192 sq. ft.); 36027 (2,425 sq. ft.); 36028 (2,400 sq. ft.); 36043 (5,000 sq. ft.)

Status: Unutilized

Comments: off-site removal only; no future agency need; due to site relocation, may be difficult; poor condition; secured area; contact Army for more information.

715

Property Number: 21201430047

Fort Hood

Fort Hood TX 76544

Status: Excess

Comments: off-site removal only; 2,810 sq. ft.; semi-permanent structure type; 11+ months vacant; fair condition; contamination; secured area; contact Army for more information.

07133

Property Number: 21201440011

Fort Bliss

Ft. Bliss TX 79916

Status: Unutilized

Comments: off-site removal only; no future agency need; relocation difficult due to size/type; 12,178 sq. ft.; storage; 120+ months vacant; poor conditions; contact Army for more information.

5 Buildings

Property Number: 21201440012

Fort Bliss

Ft. Bliss TX 79916

Location: 07134; 07142; 07153; 07162; 07178

Status: Unutilized

Comments: off-site removal only; no future agency need; relocation difficult due to size/type; sq. ft. varies; 120+ months vacant; poor conditions; contact Army for more information.

05095

Property Number: 21201440022

Fort Bliss

Ft. Bliss TX 79916

Status: Unutilized

Comments: off-site removal only; no future agency need; 12+ months vacant; good conditions; secured area; contact Army for more information.

07113

Property Number: 21201440023

Fort Bliss

Ft. Bliss TX 79916

Status: Unutilized

Comments: off-site removal only; 8,855 sq. ft.; no future agency need; relocation difficult due to size/type; 120+ months vacant; child-care center; poor conditions; contact Army for more information.

2 Buildings

Property Number: 21201440035

Yoakum USARC

Yoakum TX 77995

Location: P1005; P1006

Status: Underutilized

Comments: off-site removal only; no future agency need; 30 sq. ft.; storage for flammable materials; 53+ yrs.-old; remediation needed; contact Army for more information.

10 Buildings

Property Number: 21201520043

USAG Fort Bliss

USAG Fort Bliss TX 79916

Location: Building 05096 (768 sq.); 08396 (198 sq.); 08395 (198 sq.); 08380 (900 sq.); 08365 (132 sq.); 08364 (432 sq.); 08309 (120 sq.); 08348 (108 sq.); 08268 (432 sq.); 08349 (100 sq.)

Status: Unutilized

Comments: off-site removal; 28-70 yrs. old for bldgs. respectively above; admin; toilet; storg; range bldg.; off. qtrs.; vacant 12-60 mos.; poor cond; no future agency need; contact Army for more info.

90005; RPUID: 285770

Property Number: 21201540012

Clarke Road

Fort Hood TX

Status: Excess

Comments: off-site removal only; removal extremely difficult due to type; 181 sq. ft.; Navigation Building, Air; contact Army for more information.

92044; RPUID: 286348

Property Number: 21201540021

Loop Road

Fort Hood TX 76544

Status: Excess

Comments: off-site removal only; removal extremely difficult due to type/size; 1,920 SQ. FT.; Admin General Purpose; lead and asbestos contamination; contact Army for more information.

1348 (RPUID: 313187)

Property Number: 21201540022

North Avenue

Fort Hood TX 76544

Status: Excess

Comments: off-site removal only; 654 sq. ft.; Admin General Purpose; fair/moderate conditions; Asbestos located in Building caulking and putties; contact Army for more information.

91003; RPUID: 286087

Property Number: 21201540025

West Headquarters Avenue

Fort Hood TX 76544

Status: Excess

Comments: off-site removal only; removal extremely difficult due to type; 325 sq. ft.; Storage General Purpose; possible lead and asbestos contamination; contact Army for more information.

36017; RPUID: 174093

Property Number: 21201540027

Wratten Drive

Fort Hood TX 76544

Status: Excess

Comments: off-site removal only; removal extremely difficult due to type/size; 2,400 sq. ft.; Laboratory; contact Army for more information.

12 Buildings

Property Number: 21201610030

Fort Hood

Fort Hood TX

Location: 56204:311933 240 sq.; 56191:170499 200 sq.; 56167:171025 240 sq.; 56153:172770 200 sq.; 56186:312163 240 sq.; 56178:312162 350 sq.; 56144:172878 240 sq.; 56141:17255 240 sq.; 56119:314224 200 sq.; 56123:314228 240 sq.; 56116:314216 240 sq.; 56003:172568 248 sq.

Status: Excess

Comments: off-site removal only; 13+-22+yrs old; toilet/shower; contact Army for more information.

4 Buildings

Property Number: 21201610032

Fort Hood

Fort Hood TX

Location: Building 92062 RPUID: 286949 96 Sq. ft.; A4211 RPUID: 182761 87 sq. ft.; 92043 RPUID: 286347 464 sq. ft.; 90073 RPUID: 286004 120 sq. ft.

Status: Unutilized

Comments: off-site removal only; 34+-64+ yrs. old; power plant; storage; no future agency need; contact Army for more information.

5 Buildings

Property Number: 21201610053

Fort Hood

Fort Hood TX 76544

Location: 2028-RPUID: 171488 (7,848 sq. ft.); 51018-RPUID: 169913 (11,854 sq. ft.); 2032- RPUID: 171492 (1,288 sq. ft.); 51019-RPUID: 169914 (11,854 sq. ft.); 4262-RPUID: 312301 (11,854 sq. ft.)

Status: Excess

Comments: off-site removal only; 14+-79+ yrs. old; storage; maintenance shop; toilet/shower; maybe difficult to move; contact Army for more information.

5 Buildings

Property Number: 21201610055

Fort Hood

Fort Hood TX 76544

Location: 11020-RPUID: 181444 (1,224 sq. ft.); 4611-RPUID: 314513 (11,854 sq. ft.); 51017-RPUID: 169912 (11,854 sq. ft.); 51015-RPUID: 169910 (11,854 sq. ft.); 7020-RPUID: 584784 (6,104 sq. ft.)

Status: Excess

Comments: off-site removal only; 13+-49+ yrs. old; storage; battery shop; battalion hdqts.; may be difficult to move; contact Army for more information.

6 Buildings

Property Number: 21201610056

Fort Hood

Fort Hood TX 76544

Location: 51020-RPUID: 169909 (11,854 sq. ft.); 51016-RPUID: 169911 (11,854 sq. ft.); 91003-RPUID: 286087 (325 sq. ft.); 92065-RPUID: 286952 (3,994 sq. ft.); 421-RPUID: 171462 (10,752 sq. ft.); 1156-RPUID: 171784 (7,079 sq. ft.)

Status: Excess

Comments: off-site removal only; 10+-73+ yrs. old; storage; administrative; health clinic; may be difficult to move; contact Army for more information.

3 Buildings

Property Number: 21201610057

Fort Hood

Fort Hood TX 76544

Location: 233-RPUID: 170829 (2,250 sq. ft.); 230-RPUID: 170826 (5,851 sq. ft.); 229-RPUID: 170825 (7,310 sq. ft.)

Status: Unutilized

Comments: off-site removal only; 73+-74+ yrs. old; training aids center; no future agency need; contact Army for more information.

Building Number 4499

Property Number: 21201610059

77th Street

Fort Hood TX 76544

Location: RPUID: 314497

Status: Excess

Comments: 29+ yrs. old; 2,449 sq. ft.; shed; contact Army for more information.

20 Buildings

Property Number: 21201630001

Red River Army Depot

Texarkana TX 75507

Location: 02095; 02101; 02109; 02113; 02125; 02127; 02135; 02143; 02145; 02197; 02263; 02261; 02205; 02255; 02249; 02247; 02241; 02211; 02217; 02235

Status: Excess

Comments: off-site removal only; poor conditions; 168 sq. ft. each; safety shelters; contact Army for more details on a specific property listed above.

15 Buildings

Property Number: 21201630002

Red River Army Depot

Texarkana TX 75507-5000

Location: 02287; 02275; 02271; 02379; 02289; 02323; 02351; 02397; 02403; 02419; 02423; 02383; 02093; 02305; 02309

Status: Excess

Comments: off-site removal only; poor conditions; 168 sq. ft. for each; contact Army for more details on a specific property listed above.

2 Buildings

Property Number: 21201630005

Red River Army Depot

Texarkana TX 75507

Location: 02369 (257 sq. ft.; access control facility); 00450 (44 sq. ft.; FE Maint.)

Status: Excess

Comments: off-site removal only; very poor conditions; contact Army for more specific details on a property listed above.

Utah

Building 00118

Property Number: 21201310002

1 Tooele Army Depot

Tooele UT 84074

Location: previously reported under HUD property number 21200740163

Status: Underutilized

Comments: off-site removal only; 6,136 sf.; 4 mons. vacant; barracks; major repairs needed; w/in secured area; contact Army for info. on accessibility/removal reqs.

Building 00155

Property Number: 21201310003

1 Tooele Army Depot

Tooele UT 84074

Location: previously reported under HUD property number 21200740165

Status: Underutilized

Comments: off-site removal only; 8,960 sf.; bowling ctr.; major repairs needed; w/in secured area; contact Army for info. on accessibility/removal reqs.

Building 00030

Property Number: 21201310067

Tooele Army Depot

Tooele UT 84074

Status: Underutilized

Comments: off-site removal only; playground; disassembly required; minor restoration needed; restricted area; contact Army for accessibility/removal reqs.

Building 01322

Property Number: 21201330047

1 Tooele Army Depot

Tooele UT 84074

Status: Unutilized

Comments: off-site removal only; no future agency need; 53 sf.; 26+ months vacant; access control facility; poor conditions; secured area; contact Army for more info. on accessibility removal reqs.

Air Force

Building

Virginia

2799 Harrison Loop

Property Number: 18201620011

JBLE Ft. Eustis

Ft. Eustis VA

Status: Unutilized

Comments: off-site removal only; no future agency need; Admin.; 5,700 sq. ft.; extreme. difficult to remove; very poor conditions; lead; contact Air Force for more info.

2785 Harrison Loop

Property Number: 18201620012

JBLE Ft. Eustis

Ft. Eustis VA

Status: Unutilized

Comments: off-site removal only; no future agency need; 7,715 sq. ft.; extreme. difficult to remove; Admin. very poor conditions; contact Air Force for more info.

811 Gaffy Place

Property Number: 18201620013

JBLE Ft. Eustis

Ft. Eustis VA

Status: Unutilized

Comments: off-site removal only; no future agency need; extreme. difficult to remove; 40,166 sq. ft.; barracks; very poor conditions; contact Air Force for more info.

652 Williamson Loop

Property Number: 18201620014

JBLE Ft. Eustis

Ft. Eustis VA

Status: Unutilized

Comments: off-site removal only; no future agency need; extreme. difficult remove; 3,214 sq. ft.; storage; very poor conditions; contact Air Force for more info.

2749 Taylor Ave.

Property Number: 18201620015

JBLE Ft. Eustis

Ft. Eustis VA

Status: Unutilized

Comments: off-site removal only; no future agency need; 100 sq. ft.; storage; very poor conditions; contact Air Force for more info.

876 Lee Blvd.

Property Number: 18201620018

JBLE

Ft. Eustis VA 23604

Status: Unutilized

Comments: off-site removal only; no future agency need; 651 sq. ft.; office; very poor conditions; contact Air Force for more info.

2703

Property Number: 18201620019

Marshall St.

Ft. Eustis VA 23604

Status: Unutilized

Comments: off-site removal only; no future agency need; difficult to remove; 1,200 sq. ft.; storage; very poor conditions; contact Air Force for more info.

3913

Property Number: 18201620020

Mulberry Island Rd.

Ft. Eustis VA 23604

Status: Unutilized

Comments: off-site removal only; no future agency need; 767 sq. ft.; very poor conditions; contact Air Force for more info.

2794 Harrison Loop

Property Number: 18201620022

JBLE

Ft. Eustis VA

Status: Unutilized

Comments: off-site removal only; no future agency need extreme. difficult to remove; 6,782 sq. ft.; Admin.; very poor conditions; contact Air Force for more info.

822 Lee Blvd.

Property Number: 18201620034

822 Lee Blvd.

Fort Eustis VA 23604

Status: Unutilized

Comments: 8+ yrs old; 205 sq. ft.; heat plant facility; vacant 7+ mos.; beyond economic repair; no future agency need; contact AF for more information.

663 Darcy Pl.

Property Number: 18201630016

JBLE

Ft. Eustis VA

Status: Unutilized

Comments: off-site removal only; no future agency need; 40,090 sq. ft.; relocation extremely difficult due to size/type; barracks; contact Air Force for more details.

Army

Building

Virginia

Fort Story

Property Number: 21200720065

Ft. Story VA 23459

Status: Unutilized

Comments: 525 sq. ft., most recent use—power plant, off-site use only.

9 Buildings

Property Number: 21201240003

Ft. Belvoir

Ft. Belvoir VA 22060

Location: 358, 361, 1140, 1141, 1142, 1143, 1498, 1499, 2302

Status: Unutilized

Comments: off-site removal only; sf. varies; Admin.; fair conditions; located in restricted area; contact Army for info. on accessibility/removal & specific info. on a property.

510

Property Number: 21201430007

Defense Supply Center

Richmond VA 23237

Location: 510

Status: Excess

Comments: off-site removal only; removal may be difficult due to structure type; Barbeque Pit; 20 sq. ft.; 22+ years old; secured area; contact Army for more information.

Building 22696

Property Number: 21201510015

Fort Drum

Ft. Drum VA 13602

Status: Unutilized

Comments: off-site removal only; no future agency need; removal may be difficult; 400 sq. ft.; range operations bldg.; deteriorated; contact Army for more information.

T-482

Property Number: 21201520003

JB Myer Henderson Hall

Ft. Myer VA 22211

Status: Excess

Comments: off-site removal only; 8,267 sq. ft.; relocation may be difficult to size; office; 6+ months vacant; contact Army for more information.

Building 8400

Property Number: 21201610029

Fort Lee

Fort Lee VA 23801

Status: Underutilized

Comments: 61+ yrs. old; 9,878 sq. ft.; dining facility; requires extensive renovation; prior approval to gain access is required; building in use; contact Army for more information.

1201; RPUID: 572697

Property Number: 21201640008

Fort A.P. Hill

Ft. A.P. Hill VA 22427

Status: Underutilized

Comments: off-site removal only; no future agency need; relocation extremely difficult due to size/type; airfield ops. bldg.; fair/poor conditions; contact Army for more info.

Navy

Building

Virginia

BG John Cropper Memorial Center

Property Number: 77201610026

R1 & R2 Kearsarge Circle

Wallops Island VA 23337

Location: Sits on 5.3 Acres of land

Status: Unutilized

Comments: 46+ yrs. old; 16,654 sq. ft.; vacant 1 mo.; storage; no future agency need; contact Navy for more information.

White Pass Work Center

Property Number: 15201640021

31381 Hwy. 12 located at MP 17

from 410/12 junction

Naches WA 98937

Location: 0767200 1152 (1110.005511; 1058 (1106.005511); 1151 (1109.005511); 1051 (1103.005511); 1053 (1105.005511); 1050 (1102.005511)

Status: Unutilized

Comments: off-site removal only; 57-81+ yrs. old; 1,000-3,444 sf.; residential; removal extremely difficult; vacant 12 mos., no future agency need; appt. needed; contact Agriculture for more information.

Army

Building

Washington

E1302 & R7610

Property Number: 21201230028

JBLM

JBLM WA 98433

Status: Unutilized

Comments: 80 sf. (E1302); 503 sf. (R7610); use: varies; major repairs needed; secured area; contact Army re: accessibility requirements.

Bldg. 06239

Property Number: 21201430053

Joint Base Lewis McChord

JBLM WA 90433

Status: Unutilized

Comments: off-site removal only; no future agency need; deconstruct to relocate; difficult to relocate due to size/type; poor conditions; contact Army for more info.

23 Buildings

Property Number: 21201430054

Joint Base Lewis McChord

JBLM WA 98433

Location: 03223; 03225; 03627; 03628; 03629; 03632; 03638; 03640; 03641; 03643; 03644; 03645; 06991; 09663; 09998; 11680; A0303; C1342; F0017; F0018; J0831; J0833; W3641

Status: Underutilized

Comments: off-site removal only; no future agency need; deconstruct to relocate; difficult to relocate due to type/size; poor conditions; secured area; contact for more info.

Building 02080

Property Number: 21201440048

Joint Base Lewis McChord

JBLM WA 98433

Status: Underutilized

Comments: off-site removal only; no future agency need; relocation may be difficult due to type/size; 2,031 sq. ft.; storage; 1+ month vacant; major repairs needed; contact Army for more information.

2 Buildings

Property Number: 21201440057

Joint Base Lewis McChord

JBLM WA 98433

Location: 01036; 01037

Status: Underutilized

Comments: off-site removal only; no future agency need; relocation extremely difficult due to size; 8,142 sq. ft. for each; major repairs needed; contact Army for more information.

5 Buildings

Property Number: 21201510042

Joint Base Lewis McChord

JBLM WA 98433

Location: D0110 (148 sq. ft.); 03933 (192 sq. ft.); O04ED (48 sq. ft.); 14109 (225 sq. ft.); 09643 (720 sq. ft.)

Status: Underutilized

Comments: off-site removal only; no future agency need; significant repairs needed; contact Army for more information on a specific property.

Building 03932

Property Number: 21201520001

Joint Base Lewis McChord

JBLM WA 98433

Status: Underutilized

Comments: off-site removal only; no future agency need; 120 sq. ft.; storage; 49+ yrs.; significant repairs for restoration; contamination; contact Army for accessibility and removal requirements.

Agriculture

Building

Wisconsin

Jacobson Garage Infra #305

Property Number: 15201620007

Loon Lake Road

Iron River WI 54847

Status: Surplus

Comments: 37+ yrs. old; 576 sq. ft.; storage; contact Agriculture for more information.

Jacobson Residence Infra #220

Property Number: 15201620010

Loon Lake Road

Iron River WI 54847

Status: Unutilized

Comments: 43+ yrs. old; 2,804 sq. ft.; residential; contact Agriculture for more information.

Army

Building

Wisconsin

5 Buildings

Property Number: 21201640011

Milwaukee USARC/AMSA #49

Milwaukee WI 53218

Location: 00312—3,216 sq. ft. (968290); 00308—14,903 sq. ft. (968288); 00307—9,657 sq. ft. (968287); 00316—54 sq. ft. (587956); 00314—136 sq. ft. (621067)

Status: Unutilized

Comments: off-site removal only; no future agency need; relocation extremely difficult for some due to size/type; poor conditions; contact Army for more info. on a specific property listed above.

TITLE V—PROPERTIES REPORTED IN YEAR 2016 WHICH ARE SUITABLE AND UNAVAILABLE

GSA

Building

Alabama

Gadsden Federal Building

Property Number: 54201620018

Courthouse

600 Broad Street

Gadsden AL 35901

Status: Excess

GSA Number: 4-G-AL-0805-AA

Reason: Conveyance Pending.

Historic Hannah Houses

Property Number: 54201620020

157 and 159 N Conception Street

Mobile AL 36603

Status: Excess

GSA Number: 4-G-AL-0817AAA

Reason: Advertised for sale.

Arkansas

Former Eaker AFB Recreational

Property Number: 54201620026

Property

630 Lansing Street

Blytheville AR 72315

Status: Excess

GSA Number: 7-GR-AR-0582

Reason: Expression of interest received

Army

Building

California

00806

Property Number: 21201410017

Fort Hunter Liggett

Fort Hunter Liggett CA 93928

Status: Unutilized

Reason: Existing Federal Need

GSA

Building

California

Hawthorne Federal Building

Property Number: 54201620009

15000 Aviation Blvd.,

Hawthorne CA 90250

Status: Surplus

GSA Number: 9-G-CA-1695-AB

Reason: Expression of interest received

Alameda Federal Center

Property Number: 54201630019

Northern Parcel

620 Central Ave.

Alameda CA 94501

Status: Excess

GSA Number: 9-G-CA-1604-AD

Reason: Federal Need

Colorado

East Central Board

Property Number: 54201630007

of Cooperative Educational Services Property

47156 State Highway 71

Limon CO 80828

Status: Surplus

GSA Number: 7-GR-CO-0640-2

Reason: Advertised for sale

District of Columbia

Cotton Annex

Property Number: 54201620003

300 12th Street, SW

Washington DC 20024

Status: Excess

GSA Number: DC-0510-AB

Reason: Advertised for sale

Land

Florida

Former Outer Maker Site

Property Number: 54201610001

105th Ave. North

Royal Palm Beach FL 33411

Status: Surplus

GSA Number: 4-U-FL_1332AA

Reason: Advertised for sale

Former Locator Outer Marker

Property Number: 54201630002

(LOM/OM)

17364 Dumont Drive

Fort Myers FL 33967

Status: Excess

GSA Number: 4-U-FL-1334AA

Reason: Advertised for sale

Army

Building

Georgia

1096

Property Number: 21201410001

Fort Stewart

Ft. Stewart GA 31314

Status: Excess

Reason: Existing Federal Need; Occupied

3 Buildings

Property Number: 21201410002

Hunter Army Airfield

Hunter Army Airfield GA 31409

Status: Excess

Reason: Existing Federal Need; Occupied

1124

Property Number: 21201410010

Hunter Army Airfield

Hunter Army Airfield GA 31409

Status: Excess

Reason: Existing Federal need; occupied

GSA

Building

Illinois

Federal Bldg. & Courthouse

Property Number: 54201610003

201 N. Vermillion St.

Danville IL 61832

Status: Excess

GSA Number: 1-G-IL-810

Reason: Expression of interest

4 Buildings

Property Number: 54201620016

202-220 S. State Street

Chicago IL 60604

Status: Excess

GSA Number: 1-G-IL-0812-AA

Reason: Expression of interest received

Rockford USARC

Property Number: 54201630006

1130 Arthur Ave.

Rockford IL 61101

Status: Surplus

GSA Number: 1-D-IL-800

Reason: Expression of interest received

Iowa

Creston Memorial U.S.

Property Number: 54201620015

Army Reserve Center

705 East Taylor Street

Creston IA 50801

Status: Surplus

GSA Number: 7-D-IA-0520-AA

Reason: Expression of interest received

Land

Exira Repeater Site

Property Number: 54201630005

41.590672, -94.954396

Exira IA 50076

Status: Surplus

GSA Number: 7-D-IA-0521-AA

Reason: Expression of interest received

Army

Building

Louisiana

8 Buildings

Property Number: 21201340023

Fort Polk

Fort Polk LA 71459

Status: Underutilized

Reason: Existing Federal need

GSA

Building

Louisiana

3 Buildings & 12.9 Fee Acres

Property Number: 54201610009

400 Edwards Ave./Harahan FSS Depot

Elmwood LA 70123

Status: Surplus

GSA Number: 7-G-LA-0532-AA

Reason: Expression of interest received

Baton Rouge Depot

Property Number: 54201620025

2695 North Sherwood Forest Drive

Baton Rouge LA 70814

Status: Surplus

GSA Number: 7-G-LA-0523-AH

Reason: Advertised for sale

Former Hammond Army Reserve

Property Number: 54201630011

Center

1290 SW Railroad Ave.

Hammond LA 70403

Status: Excess

GSA Number: 7-A-LA-0579-AA

Reason: Expression of interest received

Maine

Former Radio Communication

Property Number: 54201630003

Link Repeater

78 Libby Hill Rd.

Gardiner ME 04345

Status: Excess

GSA Number: 1-U-ME-0699-AA

Reason: Expression of interest received

2 Buildings

Property Number: 54201630009

3 Customs Street

Calais ME 04619

Status: Unutilized

GSA Number: ME-0698-AC

Reason: Conveyance Pending

Minnesota

Henry H. Sibley USARC

Property Number: 54201620002

600 N. Brown Avenue

Winthrop MN 55396

Status: Excess

GSA Number: 1-D-MN-0601-AA

Reason: Advertised for sale

Missouri

3 Buildings

Property Number: 54201610011

90, 91 & 92 Grant Avenue

St. Louis MO 63125

Status: Surplus

GSA Number: 7-D-MO-0421-6

Reason: Advertised for sale

U.S. Army Reserve Center #2

Property Number: 54201630008

4100 Goodfellow Blvd.

St. Louis MO 63120

Status: Surplus

GSA Number: 7-D-MO-0857-AA

Reason: Expression of interest received

New Hampshire

Thomas J. McIntyre Federal

Property Number: 54201640004

Building 80 Daniel Street

Portsmouth NH

Status: Excess

GSA Number: NH0515

Reason: Expression of Interest Received

North Carolina

Bryson City Federal Building

Property Number: 54201620019

and Courthouse

50 Main Street

Bryson City NC 28713

Status: Excess

GSA Number: 4-G-NC-0838-AA

Reason: Expression of interest received

U.S. Army Reserve Center

Property Number: 54201640006

1228 Carroll Street

Durham NC 27707

Status: Excess

GSA Number: 4-D-NC-0832-AA

Reason: Expression of Interest Received

Oregon

12 Buildings

Property Number: 54201620004

580 Fish Lake Road

Butte Falls OR 97522

Status: Excess

GSA Number: 9-I-OR-0787AA

Reason: Expression of interest received

Land

Oregon

Crowfoot Road Egg Taking

Property Number: 54201620001

Station

Crowfoot Road

Jackson OR 97522

Status: Excess

GSA Number: 9-I-OR-0787 AB

Reason: Expression of interest received

GSA

Building

South Carolina

Orangeburg Memorial USARC

Property Number: 54201640007

287 John C. Calhoun Drive

Orangeburg SC 29115

Status: Excess

GSA Number: 4-D-SC-0638AA

Reason: Expression of Interest Received

Land

Tennessee

Parcel G, 20.96+ acres

Property Number: 54201630001

Bethel Valley Road

Oak Ridge TN 37830

Status: Surplus

GSA Number: 4-B-TN-0664-AE

Reason: Conveyance Pending

Agriculture

Building

Texas

Building 55= 620240B055

Property Number: 15201640005

Texas A&M Bldg. #7042

RPUID: 03.54361

Bryan TX 77805

Status: Unutilized

Reason: Existing Federal Need

Building 54= 620240B054

Property Number: 15201640006

Texas A&M Bldg. #7041

RPUID: 03.54360

Bryan TX 77805

Status: Unutilized

Reason: Existing Federal need

Building 53= 620240B053

Property Number: 15201640007

Texas A&M Bldg. #7044

RPUID: 03.54359

Bryan TX 77805

Status: Unutilized

Reason: Existing Federal need

Building 52= 620240B052

Property Number: 15201640008

Texas A&M Bldg. #7043

RPUID: 03.54358

Bryan TX 77805

Status: Unutilized

Reason: Still Federal need

Building 51= 620240B051

Property Number: 15201640009

Texas A&M Bldg. #7045

RPUID: 03.54357

Bryan TX 77805

Status: Unutilized

Reason: Existing Federal need

Building 50= 620240B050

Property Number: 15201640010

Texas A&M Bldg. #7040

RPUID: 03.54356

Bryan TX 77845

Status: Unutilized

Reason: Existing Federal need

Army

Building

Texas

Bldg. 4207

Property Number: 21200740076

Fort Hood

Bell TX 76544

Status: Excess

Reason: Utilized

Bldg. 4219A

Property Number: 21200740079

Fort Hood

Bell TX 76544

Status: Excess

Reason: Utilized

Bldg. 04485

Property Number: 21200740084

Fort Hood

Bell TX 76544

Status: Excess

Reason: Utilized

Bldg. 04489

Property Number: 21200740086

Fort Hood

Ft. Hood TX 76544

Status: Excess

Reason: Utilized

Bldg. 56329

Property Number: 21200740100

Fort Hood

Bell TX 76544

Status: Excess

Reason: Utilized

Bldg. 92043

Property Number: 21200740102

Fort Hood

Bell TX 76544

Status: Excess

Reason: Utilized

Bldg. 4404

Property Number: 21200740190

Fort Hood

Bell TX 76544

Status: Excess

Reason: Utilized

Building 6924

Property Number: 21201240012

11331 Montana Ave.

Ft. Bliss TX 79916

Status: Excess

Reason: Occupied

8 Buildings

Property Number: 21201410020

Fort Hood

Ft. Hood TX 76544

Status: Excess

Reason: Existing Federal Need; Occupied

9 Buildings

Property Number: 21201410021

Fort Hood

Fort Hood TX 96544

Status: Excess

Reason: Existing Federal need; occupied

8 Buildings

Property Number: 21201410023

Fort Hood

Fort Hood TX 76544

Status: Excess

Reason: Existing Federal need; occupied

8 Buildings

Property Number: 21201410028

Fort Hood

Ft. Hood TX 76544

Status: Excess

Reason: Existing Federal need; occupied

GSA

Building

Texas

Sierra Border Patrol Station

Property Number: 54201630013

908 West El Paso Street

Sierra Blanco TX 79851

Status: Surplus

GSA Number: 7-X-TX-1161-AB

Reason: Expression of interest received

Former Tyler Naval Reserve

Property Number: 54201640001

Center; 1818 North Confederate

Street

Tyler TX 75701

Status: Surplus

GSA Number: 7-G-TX-0984-AD

Reason: Expression of interest received

Army

Building

Virginia

Bldg. 01014

Property Number: 21200720067

Fort Story

Ft. Story VA 23459

Status: Unutilized

Reason: Occupied

Bldg. 01063

Property Number: 21200720072

Fort Story

Ft. Story VA 23459

Status: Unutilized

Reason: Occupied

Washington

03215

Property Number: 21201410008

Joint Base Lewis McChord

JBLM WA 98433

Status: Underutilized

Reason: Existing Federal need; Occupied

03221

Property Number: 21201410039

Joint Base Lewis McChord

JBLM WA 98433

Status: Underutilized

Reason: Existing Federal need

GSA

Building

Washington

USARC Moses Lake

Property Number: 54201610010

Arnold Dr., at Newell St.,

Building 4306

Moses Lake WA 98837

Status: Excess

GSA Number: 9-I-WA-1141

Reason: Advertised for sale

Wenatchee Federal Building

Property Number: 54201620012

301 Yakima Street

Wenatchee WA 98001

Status: Excess

GSA Number: 9-G-WA-1286

Reason: Advertised for sale

N Border Housing at the Laurie

Property Number: 54201620022

LOPE

27107 Highway 395 North

Laurier WA 99146

Status: Excess

GSA Number: 9-G-WA-1297-AA

Reason: Advertised for sale

South Border Housing

Property Number: 54201620023

Laurier LOPE

27107 Highway 395 North

Laurier WA 99146

Status: Excess

GSA Number: 9-G-WA-1297-AB

Reason: Advertised for sale

USMC Reserve Center

Property Number: 54201630004

1702 Tahoma Ave.,

Yakima WA 98902

Status: Excess

GSA Number: 9-D-WA-1278AA

Reason: Expression of interest received

West Virginia

Parkersburg Federal Building

Property Number: 54201640005

425 Juliana Street

Parkersburg WV 26101

Status: Excess

GSA Number: 4-G-WV-0564

Reason: Advertised for Sale

Wisconsin

William J. Huempfner USARC

Property Number: 54201620028

2426 Prairie Avenue

Beloit WI 54656

Status: Surplus

GSA Number: I-D-WI-612

Reason: Advertised for sale

[FR Doc. 2017-02466 Filed 2-9-17; 8:45 am]

BILLING CODE 4210-67-P